DEPARTMENT OF TRANSPORTATION

Pipeline and Hazardous Materials Safety Administration

49 CFR Parts 192, and 195

[Docket No. PHMSA-2016-0002; Amdt. Nos. 192-135, 195-107]

RIN 2137-AF13

Pipeline Safety: Periodic Updates of Regulatory References to Technical Standards and Miscellaneous Amendments

AGENCY: Pipeline and Hazardous Materials Safety Administration (PHMSA), DOT.

ACTION: Final rule.

SUMMARY: PHMSA is amending the Federal pipeline safety regulations (PSRs) to incorporate by reference all or parts of more than 20 new or updated voluntary, consensus industry technical standards. This action allows pipeline operators to use current technologies, improved materials, and updated industry and management practices. Additionally, PHMSA is clarifying certain regulatory provisions and making several editorial corrections.

DATES: The effective date of this final rule is June 28, 2024. The incorporation by reference of certain publications listed in the rule is approved by the Director of the Federal Register as of June 28, 2024.

FOR FURTHER INFORMATION CONTACT:

Technical Information: Rod Seeley by phone at 281 513-1741 or by email at rodrick.m.seeley@dot.gov.

Regulatory Information: Brianna Wilson by phone at 771-215-0969 or by email at brianna.wilson@dot.gov.

SUPPLEMENTARY INFORMATION:

I. Background

II. Notice of Proposed Rulemaking

III. Pipeline Advisory Committee Meetings

IV. Summary of Comments, GPAC/LPAC Discussion, and PHMSA Response

V. Summary of Final Rule

VI. Regulatory Analyses and Notices

I. Background

A. Purpose of This Rule

This final rule incorporates by reference more than 20 new or updated voluntary, consensus industry technical standards (updated industry standards) within the PSRs (49 Code of Federal Regulation (CFR) parts 190-199). These updated standards will maintain or improve public safety and environmental protection, prevent regulatory confusion, reduce compliance burdens on stakeholders, and satisfy a mandate in the National Technology Transfer and Advancement Act (NTTAA) of 1995 (15 United States Code (U.S.C.) 272 (note)) directing Federal agencies to, “when practical and consistent with applicable laws, use technical standards developed by voluntary consensus standard bodies instead of government-developed technical standards.”

PHMSA incorporates more than 80 industry standards by reference into the PSRs; however, many standards become outdated over time as new editions become available. By updating these standards, PHMSA ensures better alignment of the PSRs with the latest innovations in operational and management practices, materials, testing, and technological advancements; enhances compliance by avoiding conflict between different versions of the same industry standards; and facilitates safety-focused allocation of resources by pipeline operators. PHMSA consequently concludes that each of the updated standards in this final rule will either maintain or enhance the protection of public safety and the environment—including avoidance of greenhouse gas emissions in the form of methane releases from gas pipelines. PHMSA further concludes that each of the final rule's updated standards are technically feasible, reasonable, cost-effective, and practicable because of their respective anticipated commercial, public safety, and environmental benefits; and because the benefits better support PHMSA's safety and environmental priorities compared to alternatives, thereby justifying any associated compliance costs.

B. History of Incorporation by Reference

The Office of Management and Budget (OMB) sets the policy for Federal use and development of voluntary, consensus industry technical standards in OMB Circular A-119 (“Federal Participation in the Development and Use of Voluntary Consensus Standards and in Conformity Assessment Activities”).¹ Material that is incorporated by reference (IBR) is treated as if it were published in full in the Federal Register and the PSRs. Therefore, like any other rule issued in the Federal Register, a voluntary, consensus industry technical standard that has been incorporated by reference has the full force and effect of the law. As specified in 1 CFR 51.1(c), the Director of the Federal Register has the authority to determine whether material that is proposed for IBR serves the public interest. If a provision of an incorporated standard conflicts with a regulation, the regulation takes precedence unless the regulation expressly provides otherwise.

¹ OMB, Circular No. A-119 (Feb. 10, 1998), available at: https://www.whitehouse.gov/wp-content/uploads/2017/11/Circular-119-1.pdf.

PHMSA has incorporated more than 80 industry standards by reference into the PSRs. The lists of publications that PHMSA has incorporated into parts 192 (which regulates the transportation of gas by pipeline) and 195 (which regulates the transportation of hazardous liquids and carbon dioxide by pipeline) are found in §§ 192.7 and 195.3, respectively. Previous rules that incorporated updated industry standards by reference were published on May 24, 1996 (61 FR 26121); February 17, 1998 (63 FR 7721); June 14, 2004 (69 FR 32886); June 9, 2006 (71 FR 33402); February 1, 2007 (72 FR 4655 (correction)); August 11, 2010 (75 FR 48593); January 5, 2015 (80 FR 168); and August 6, 2015 (80 FR 46847 (correction)).²

² PHMSA is also pursuing another periodic standards update rulemaking (under RIN2137-AF48) in parallel with issuance of this final rule. See PHMSA, “Pipeline Safety: Periodic Standards Update II—Proposed Rule,” 87 FR 52713 (Aug. 29, 2022).

The voluntary, consensus industry technical standards related to pipeline facilities that are incorporated within the PSRs are developed or adopted by domestic and international standard-development organizations (SDOs). Approximately every two to five years, these organizations use agreed-upon procedures to update and revise their published standards to reflect the latest developments in technology, testing, and operational practices. New or updated industry standards often incorporate new technologies, materials, management practices, and other innovations that can improve the physical integrity, and the safe and environmentally protective operation of pipeline facilities.

PHMSA employees participate in meetings held by 25 domestic SDOs that address the design, construction, maintenance, inspection, operation, and repair of pipeline facilities. PHMSA's subject-matter experts represent the Agency in all dealings with the SDOs; participate in discussions and technical debates; register opinions; and vote in accordance with the procedures of the SDOs at each stage of the standards-development process (unless prohibited from doing so by law). PHMSA participates in this process to ensure the Agency's safety and environmental priorities are considered, and to avoid the need to develop separate, government-unique standards.

PHMSA also regularly reviews updated editions of currently referenced industry standards and amends the PSRs to partially or fully incorporate updated standards that will enhance or maintain pipeline and environmental safety. This ensures that the PSRs incorporate and facilitate the use of the latest technologies, materials, management and operational practices, testing, and other innovations. The adoption of more recent editions of industry standards also prevents conflicts between the standards referenced in the PSRs and updated versions of the same standards with which operators and suppliers may voluntarily comply, thereby (1) avoiding the confusion and expense associated with ensuring compliance with competing versions of the same standard; and (2) improving compliance and allowing the allocation of more operator resources toward safety and environmental protection. PHMSA reviewed the updated standards discussed in this final rule and finds them appropriate for IBR within the PSRs.

C. Availability of Materials to Interested Parties

Pursuant to section 24 of the Pipeline Safety, Regulatory Certainty, and Job Creation Act of 2011 (Pub. L. 112-90, 49 U.S.C. 60102(p), as amended), “the Secretary may not issue a regulation pursuant to this chapter that incorporates any documents or portions thereof unless the documents or portions thereof are made available to the public, free of charge.” On November 7, 2014, the Office of the Federal Register issued a final rule that revised 1 CFR 51.5 to require every Federal agency to “[d]iscuss, in the preamble of the proposed rule, the ways that the materials it proposes to incorporate by reference are reasonably available to interested parties or how it worked to make those materials reasonably available to interested parties[.]” ³

³ Office of the Federal Register, “Incorporation by Reference—Final Rule,” 79 FR 66267 (Nov. 7, 2014).

PHMSA consequently has negotiated agreements to make viewable copies of the standards available to the public at no cost with all but two of the SDOs whose updated standards PHMSA now incorporates by reference in the PSRs in this final rule. The organizations that agreed to the public access requirements of the statutory mandate discussed above are: the American Petroleum Institute (API), the American Gas Association (AGA), ASTM International (formerly the American Society for Testing and Materials), the Gas Technology Institute (GTI), the Manufacturers Standardization Society of the Valve and Fittings Industry, Inc. (MSS), the Association for Materials Protection and Performance (AMPP), the National Fire Protection Association (NFPA), and the Plastics Pipe Institute (PPI).⁴ Each organization's mailing address and website is listed in 49 CFR parts 192 and 195. As of the date of publication of this final rule, PHMSA was not able to reach a general agreement with the American Society of Mechanical Engineers (ASME) to make the standards readily available online as ASME relies heavily on the revenue the standards generate.⁵ Individuals and organizations may temporarily access the ASME standards incorporated by reference in this final rule, as well as any other standard in this final rule that is not otherwise available from the relevant SDO, by contacting PHMSA at the following email address: phmsaphpstandards@dot.gov. Such requests should include a phone number, physical address, and an email address.

⁴ ASTM updates some of its more widely used standards every year, and sometimes SDOs publish multiple editions of a standard in a given year. NACE International and the Society for Protective Coatings merged to form AMPP, which is why NACE standards are listed under AMPP.

⁵ At the joint October 2021 GPAC/LPAC meeting, the committees raised concerns regarding the availability of ASME standards. The committees recommended PHMSA work with the pipeline advisory committees and other pipeline safety representatives to establish an agreement with ASME to provide viewable copies of the standards incorporated by reference in the PSRs permanently available on the internet for free to the general public. Joint Gas and Liquid Pipeline Advisory Committee Meeting Transcript, Docket No. PHMSA-2021-0069-0005 at 86:2-11, (Oct. 21, 2021) (Joint GPAC/LPAC Transcript).

The API standards incorporated in this final rule are available from the following website: https://publications.api.org/IBR-Documents-Under-Consideration.aspx.

The ASTM standards incorporated in this final rule are available from the following website: https://www.astm.org/products-services/reading-room.html.

The MSS standards incorporated in this final rule are available from the following website: https://ibr.ansi.org/standards/mss.aspx.

The AMPP: NACE standards incorporated in this final rule are available from the following website: https://ibr.ansi.org/Standards/nace.aspx.

Finally, the NFPA standards incorporated in this final rule are available from the following website: https://www.nfpa.org/Codes-and-Standards/All-Codes-and-Standards/List-of-Codes-and-Standards.

In addition, the ASME standards incorporated in this final rule are available by contacting PHMSA at the following email address: phmsaphpstandards@dot.gov.

Additional information regarding standards availability can be found at https://www.phmsa.dot.gov/standards-rulemaking/pipeline/standards-incorporated-reference.

II. Notice of Proposed Rulemaking

On January 15, 2021, PHMSA published a notice of proposed rulemaking to incorporate by reference new or updated editions of voluntary, consensus industry technical standards into the PSRs.⁶ PHMSA proposed to incorporate by reference all or parts of more than 20 updated industry standards and make editorial corrections to certain regulations. The NPRM described with respect to each proposed industry standard (1) the provisions within the PSR in which it is incorporated by reference; (2) how each such standard contributed to pipeline safety or environmental protection; and (3) if the standard was an update to a standard previously incorporated by reference in the PSR, any material changes between the previous version of that industry standard and the updated version proposed for incorporation in the PSR. PHMSA requested comment from the public, state pipeline safety regulators, and other stakeholders, and considered this input when drafting the final version of this rule.

⁶ PHMSA, “Pipeline Safety: Periodic Updates of Regulatory References to Technical Standards and Miscellaneous Amendments—Proposed Rule,” 86 FR 3938 (Jan. 15, 2021) (NPRM).

III. Pipeline Advisory Committee Meeting

On October 20 and 21, 2021, PHMSA discussed the NPRM with the Technical Pipeline Safety Standards Committee (also known as the Gas Pipeline Advisory Committee (GPAC)), and the Technical Hazardous Liquid Pipeline Safety Standards Committee (also known as the Liquid Pipeline Advisory Committee (LPAC)). These committees are statutorily mandated advisory committees that, respectively, advise PHMSA on proposed gas and hazardous liquid (including carbon dioxide) pipeline facility regulatory amendments and associated risk assessments.⁷ These committees are comprised of equal representation from the government, industry, and the general public. The members of these committees review standards proposed in an NPRM for incorporation within the PSRs for cost-effectiveness, reasonableness, practicability, and technical feasibility, and provide recommendations that PHMSA considers in adopting this or any other final rule.

⁷ PHMSA established these committees in accordance with its enabling statute (49 U.S.C. 60115) and the Federal Advisory Committee Act (5 U.S.C. App. 2, as amended), its implementing regulations (41 CFR parts 101-106), and DOT policies (Department of Transportation (DOT) Order 1120.3C).

The Joint GPAC/LPAC Transcript from that meeting and all presentation materials are available both in the docket for the rulemaking and on the web page that PHMSA created for the meeting.⁸ Additional information regarding the GPAC and LPAC recommendations on the NPRM may be found in section IV below.

⁸ Gas Pipeline Advisory Committee (GPAC) and Liquid Pipeline Advisory Committee (LPAC) Meeting (Oct. 21, 2021), available at: https://primis.phmsa.dot.gov/meetings/MtgHome.mtg?mtg=156.

IV. Summary of Comments, GPAC/LPAC Discussion, and PHMSA Response

On January 15, 2021, PHMSA published the NPRM proposing to incorporate by reference all or parts of more than 20 new or revised consensus standards and to make several miscellaneous editorial or technical amendments.

The comment period for the NPRM ended on March 16, 2021. PHMSA received 10 comments on the NPRM, including five late-filed comments.⁹ Pursuant to 49 CFR 190.323, PHMSA considered late-filed comments along with timely-received comments, as PHMSA's consideration of those late-filed was practicable in that their review did not add additional expense or delay to PHMSA's issuance of this final rule. The commenters on the NPRM who filed before the joint GPAC/LPAC meeting are as follows: Aaron Adamczyk; the Alyeska Pipeline Service Company; an anonymous commenter; the American Fuel & Petrochemical Manufacturers; the American Petroleum Institute; ASME; the National Propane Gas Association; and a joint comment from a number of organizations, hereafter referred to as “the Associations” (the American Petroleum Institute, Interstate Natural Gas Association of America (INGAA), GPA Midstream Association, American Gas Association, and American Public Gas Association). The commenters on the NPRM who filed after the joint GPAC/LPAC meeting are as follows: a joint comment from the American Gas Association, American Petroleum Institute, American Public Gas Association, GPA Midstream Association, and Interstate Natural Gas Association of America (collectively “AAAGI”), and a joint comment from Association of Oil Pipelines, American Petroleum Institute, and GPA Midstream Association (collectively “AAG”).

⁹ Two of the five late-filed comments were submitted after the October 2022 joint GPAC/LPAC meeting. Comments in Response to the PHMSA Public Meeting, PHMSA-2021-0069-0006 (Nov. 16, 2021); Comments on the Oct. 2021 Joint Gas and Liquid Pipeline Advisory Committee Meeting, PHMSA-2021-0069-0008 (Nov. 22, 2021).

PHMSA discusses below comments received from stakeholders (in written comments or during the GPAC/LPAC meeting) on a handful of specific industry standards and editorial and technical corrections proposed by the NPRM for incorporation in the PSRs. In connection with those and any other industry standards, technical corrections, and editorial corrections proposed in the NPRM, PHMSA incorporates by reference within this final rule its NPRM discussions of those proposed regulatory amendments—including but not limited to, its description in the NPRM of the content of any updated standards and corrections, and the safety and environmental benefits anticipated from those amendments. After evaluating its preliminary assessments of those proposed regulatory amendments against stakeholder comments discussed below, as well as pertinent discussion during and recommendations of the GPAC/LPAC, PHMSA concludes that adoption of its proposed regulatory amendments (as modified below) will better align the PSRs with the latest innovations in operational and management practices, materials, testing, and technological advancements; enhance compliance by avoiding conflict between different versions of the same industry standards; and facilitate safety-focused allocation of resources by pipeline operators. PHMSA therefore concludes that the each of the amendments to the PSR adopted in this final rule are technically feasible, cost-effective, reasonable, and practicable in light of their respective anticipated commercial, public safety, and environmental benefits that justify any associated compliance costs.

A. Stakeholder Comments and GPAC/LPAC Discussion

PHMSA received a number of comments generally supportive of its proposed IBR of updated industry standards and codification of technical and editorial corrections, with several comments calling on PHMSA to update the standards referenced in the PSRs more frequently than historical practice. A number of other comments PHMSA received on the NPRM or during the GPAC/LPAC meeting concerned retroactive application of the proposed updated industry standards; compliance timelines; minor editorial corrections to the PSR or the NPRM's proposed regulatory amendments; as well as some matters that were outside of the scope of this rulemaking.

PHMSA received one comment on the NPRM from the Alyeska Pipeline Service Company regarding the proposed IBR of an updated version of API Spec 6D.¹⁰ API Spec 6D, whose 23rd edition is currently incorporated by reference in §§ 192.145 and 195.116, defines the design, manufacturing, assembly, testing, and documentation requirements for valves used in pipeline systems. The 24th edition of API Spec 6D includes several clarifications, safety improvements, and editorial revisions, including clarified bore tolerance specifications for full-opening valves; new procedures for installers when no minimum bore tolerances are listed in the specification; and updates specifying that calibration intervals should not exceed one year. Alyeska recommended that PHMSA should, when incorporating by reference the 24th edition of API Spec 6D, include allowances for legacy designs that incorporate flanged valves with intermediate design pressures since the 24th edition of API Spec 6D prohibits designing flanged valves with intermediate pressure ratings. Alyeska stated that that its own flange connections exceed ASME B16.47 ¹¹—but not API Spec 6D—because they “us[e] special bolting dimensions as an extra safety measure not required.” Because of this, they stated that PHMSA's safety concerns regarding installing lower-pressure-rated valves motivating its proposed IBR of the updated version of API Spec 6D would not apply to its pipeline facilities. PHMSA notes, however, that the updated version of API Spec 6D will not apply retroactively; it will apply only to the design, installation, or construction of valves as they are new, replaced, relocated, or otherwise changed.

¹⁰ API Specification 6D, “Specification for Pipeline and Piping Valves,” 24th edition (Aug. 2014) (API Spec 6D).

¹¹ ASME B16.47, “Large Diameter Steel Flanges: NPS 26 through NPS 60, Metric/Inch Standard” (2020).

Additionally, the Associations' joint comment requested that PHMSA continue to allow operators to install pipe that is compliant with the 45th edition of API Spec 5L until January 1, 2022, since the 46th edition of API Spec 5L PHMSA proposed to IBR in the NPRM is relatively recent and thus the supply chain is not yet fully stocked with the compliant materials.¹² API Spec 5L is the primary manufacturing specification for seamless and welded steel pipe used in gas, hazardous liquid, and carbon dioxide pipeline transportation systems. This comment also requested that PHMSA continue to allow operators to install flanges that are compliant with the 2019 edition of MSS SP-44 ¹³ until January 1, 2022. PHMSA notes that the date the Associations anticipate the supply chain will be stocked with compliant materials has passed; because this final rule is publishing nearly two years after the projected date, PHMSA understands that there is no need for a delayed compliance date unique to its adoption of an updated version of API Spec 5L.

¹² API Specification (Spec) 5L, “Specification for Line Pipe,” 45th edition (July 2013); API Specification (Spec) 5L, “Specification for Line Pipe,” 46th edition (Apr. 2018) (API Spec 5L).

¹³ MSS SP-44-2019, Standard Practice, “Steel Pipeline Flanges” (Apr. 2020) (MSS SP-44).

PHMSA also received comments that were inapplicable for a variety of reasons. Some of those comments were inapplicable because they assumed potential application to existing pipeline facilities of updated voluntary industry standards that would be incorporated by reference within design, testing, or installation standards that are subject to the statutory retroactivity prohibition at 49 U.S.C. 60104(b). The retroactivity prohibition restricts the application of certain new standards to an existing pipeline facility unless that pipeline facility is new, replaced, relocated, or changed. Other comments were inapplicable because this final rule did not publish before alternative compliance dates proposed by the comments. Further, many of the comments that PHMSA received were outside of the scope of this rulemaking as defined by the proposals in the NPRM. For example, the Associations' joint comment requested that PHMSA incorporate by reference a number of updated voluntary, consensus industry technical standards not proposed in the NPRM, including the following: API Recommended Practice (RP) 1181 (to implement section 109 of the Protecting Our Infrastructure of Pipelines and Enhancing Safety Act of 2020 (Pub. L. 116-260)); the second edition of API RP 80 (to enhance operators' understanding and compliance with safety requirements); Addendum 2 to the 12th edition of API Standard (Std.) 620 Errata 1 to the 13th edition of API Std. 650; and a more recent edition of API Std. 653.¹⁴ Although PHMSA is considering incorporating these standards for inclusion in the future in a separate rulemaking after evaluation, it declines to adopt those standards in this rulemaking without providing the public an opportunity to review and comment upon those standards. One exception is PHMSA's incorporation of Errata 1 (January 2021) to the 13th edition of API Std. 650 since the errata only contains editorial changes. PHMSA is also incorporating errata to each of API Spec 6D (Errata 10, July 2021) and the 5th edition of API 2350 (Errata 1, April 2021) since they also only contain technical edits. PHMSA further notes that, pursuant to § 190.331, any interested person (including the Associations) may petition PHMSA to establish, amend, or repeal a substantive regulation, to include the IBR of updated voluntary industry standards.

¹⁴ For more information on these standards, please see the Associations' joint comment. Comment from API et al., Docket No. PHMSA-2016-0002-0005 (March 15, 2021).

The Associations' joint comment also asked PHMSA to correct an allegedly erroneous reference to API RP 1130 in § 195.3(b)(7).¹⁵ The joint comment specified that the PSRs currently reference the third edition of API RP 1130 while the most recent edition of API RP 1130 is the first edition. PHMSA has reviewed the history of API RP 1130 and its incorporation into the PSRs and determined that the reference in § 195.3(b)(7) is correct. On January 5, 2015, PHMSA replaced the second edition of API 1130 (which had been issued in 2002) with the third edition of API RP 1130 (which had been issued in 2007). However, PHMSA notes that API subsequently in 2017 reaffirmed the 2007 version of API RP 1130 and re-characterized it as the first edition of API RP 1130. PHMSA will therefore retain the current reference to the third edition of API RP 1130.

¹⁵ API Recommended Practice 1130, “Computational Pipeline Monitoring for Liquids: Pipeline Segment,” 3rd edition (Sept. 2007) (API RP 1130).

Both the GPAC and LPAC discussions and voting were broadly supportive of the proposed amendments in the NPRM. The GPAC voted unanimously to endorse as “technically feasible, reasonable, cost-effective, and practicable” almost all of PHMSA's proposed IBR of the updated industry standards and miscellaneous amendments within part 192. However, as discussed further in section IV.C. below, the GPAC qualified its endorsement of PHMSA's proposed IBR of the 2016 edition of ASME B31.8S by calling on PHMSA to IBR a more recent (2018) version of that standard and to make conforming revisions to the PSR provisions (including § 192.11(m)) referencing that newer version of the standard. The GPAC also called on PHMSA to work towards an agreement with ASME to make its standards available for free on the internet to the public.

The LPAC also voted unanimously to endorse as “technically feasible, reasonable, cost-effective, and practicable” almost all of PHMSA's proposed IBR of the updated industry standards and miscellaneous amendments within part 195. However, as discussed further in sections IV.B. and D below, the LPAC qualified its endorsement of PHMSA's proposed IBR of the 5th edition of API Std. 2350 and the 4th edition of API RP 651. And like the GPAC, the LPAC also called on PHMSA to work towards an agreement with ASME to make its standards available for free on the internet to the public.

B. API Std 2350

API Std 2350 applies to overfill and damage-prevention practices for aboveground storage tanks associated with facilities that receive flammable and combustible petroleum liquids, such as refineries, marketing terminals, bulk plants, and pipeline terminals. The PSRs currently reference the third edition of this document in § 195.428(c) governing aboveground breakout tanks.¹⁶ Material changes introduced between the 3rd and 5th editions of API Std 2350 are described at length in the NPRM and include the development of policies and procedures for overfill protection processes and risk assessments.

¹⁶ PHMSA notes that the version of this document currently referenced in the PSRs was characterized by API as a “recommended practice.” API now characterizes this document as a “standard.”

PHMSA received a comment from the American Fuel & Petrochemical Manufacturers regarding its proposed IBR of the 5th edition of API Std 2350. The American Fuel & Petrochemical Manufacturers expressed concern that it is unclear which provision of API Std 2350 applies to existing tank overfill systems, and that the current wording of the regulatory text would require operators to significantly expand their physical programs and make numerous changes to their operational parameters if PHMSA incorporated the updated API Std 2350. They specifically noted that § 195.428(c) states that operators must only install overfill systems in accordance with API RP 2350, but that provision fails to specify which sections of API Std 2350 operators should reference for such installations—a potential source of confusion for regulated entities because API Std 2350 contains elements pertaining to installation as well as maintenance and operation. They consequently requested that PHMSA amend the text of § 195.428(c) to identify precisely which sections of API Std 2350 govern installing an overfill protection system.

At the GPAC/LPAC meeting, an LPAC committee member representing industry noted in discussion of the proposed standard that they supported moving forward with API Std 2350 as proposed but recommended that, because of the significant changes between the 3rd and 5th editions of this standard noted in the NPRM, PHMSA consider a longer timeline to aid in its implementation by operators. However, the LPAC voted unanimously to endorse the IBR of the updated version of API Std 2350 without any explicit condition on a longer compliance timeline. Because API Std 2350 was not referenced within part 192, the GPAC neither discussed nor voted on this standard. After the GPAC/LPAC meeting, the AAG submitted a joint comment on API Std 2350 echoing the comments of the industry stakeholders during the LPAC and calling on PHMSA to extend the compliance deadline for this updated industry standard beyond the 60-day effective and compliance period PHMSA had suggested for this rulemaking during the GPAC/LPAC meeting.

In response to the American Fuel and Petrochemical's comments regarding the applicability of API Std 2350, PHMSA notes that § 195.428(c) states that “[o]ther aboveground breakout tanks with 600 gallons (2271 liters) or more of storage capacity that are constructed or significantly altered after October 2, 2000, must have an overfill protection system installed according to API RP 2350.” The requirements in § 195.428(c) are specific to installation, not to the operation or maintenance of the relevant aboveground breakout tanks. However, PHMSA also notes that the PSRs elsewhere at § 195.402 require that operators have a procedural manual for operating and maintenance for their systems—including any related breakout tanks, which are defined broadly in § 195.2 to include overfill protection systems that contribute to the pressure relief function of those breakout tanks. Therefore, an operator of a breakout tank that has installed an overfill protection system per API Std 2350 should consider also having a procedural manual to maintain the system in a manner that is consistent with API RP Std 2350.

PHMSA understands that operators will have adequate time to implement the installation requirements in API Std 2350, as specified in § 195.428(c), and implement any conforming revisions to their operations and maintenance procedural manuals given the following: (1) the extended period of time between the GPAC/LPAC meeting and publication of the final rule; (2) API Std 2350 is an industry-created standard, which, presumably, is already implemented by responsible operators; and (3) the IBR API Std 2350 standard will only apply to new, replaced, relocated, or otherwise changed overfill prevention systems. PHMSA also notes that—notwithstanding that a longer compliance timeline was presented to it—the LPAC declined to condition its endorsement of IBR of the 5th edition of API Std 2350 on a longer compliance timeline. Therefore, PHMSA did not adopt the longer implementation timeframe requested.

C. ASME B31.8S

ASME B31.8S provides guidance on various risk assessment approaches covering design, construction, operational prevention, mitigation, and assessment, ensuring the safe operation of gas pipelines. ASME B31.8S also describes the foundations for an effective integrity management (IM) program for gas transmission pipelines. Along with subpart O of part 192, ASME B31.8S provides the essential features of an IM program. The standard applies to onshore gas pipeline systems constructed with ferrous materials (such as iron and steel) that transport gas and is frequently referenced throughout subpart O. ASME B31.8S provides operators with the information necessary to develop and implement an effective IM program utilizing proven industry practices and processes. The PSRs currently IBR the 2004 version of AMSE B31.8S; the NPRM proposed to IBR the 2016 version of the standard, which incorporates a number of edits, additions, and clarifications that will improve the effectiveness of the gas transmission IM programs.

PHMSA did not originally propose regulatory text incorporating the 2018 edition of ASME B31.8S, as PHMSA explained in the NPRM that it had reviewed the 2018 edition and understood that the updated standard had removed nearly all communications plan requirements found in the portion of that standard (Section 10) explicitly mentioned in § 192.911(m). As a result, PHMSA proposed the 2016 edition for incorporation, as that version retained the Section 10 communications plan requirements. However, PHMSA explicitly requested comments regarding incorporation of the 2018 edition of ASME B31.8S.

PHMSA received two comments in response. Both the ASME and the Associations' joint comment recommended that PHMSA incorporate the 2018 edition of this standard. They noted that the communications plan requirements formerly located in Section 10 had not (as PHMSA believed) been removed, but instead been relocated from Section 10 to Chapter V, Paragraph 850.9, of the 2018 version of ASME B31.8, which is the companion standard to ASME B31.8S. Additionally, B31.8S includes a reference in Section 10 that points to the communications plan requirements in the 2018 version of ASME B31.8. The commenters therefore requested that PHMSA revise § 192.911(m) to directly reference the communications plan requirements in Paragraph 850.9 of the 2018 edition of ASME B31.8. The GPAC voted unanimously to endorse the 2018 edition of ASME B31.8S with a recommendation to revise § 192.911(m) to directly reference the communications plan requirements in Paragraph 850.9 of the 2018 edition of ASME B31.8. Because ASME B31.8S was not referenced within part 195, the LPAC neither discussed nor voted on this standard.

In response to the GPAC's recommendations and the public comments received, PHMSA, in this final rule, is incorporating the 2018 edition of ASME B31.8S within its part 192 regulations. Further, PHMSA has revised § 192.911(m) to directly reference the communications-plan requirements in Paragraph 850.9 of the 2018 edition of ASME B31.8.

PHMSA is also in this final rule making conforming revisions in the PSRs to match the relevant sections in the 2018 edition of ASME B31.8S. PHMSA updated the relevant sections as follows:

• § 192.714(c): Removed “section 7, Figure 4” and replaced it with “Section 7, Figure 7.2.1-1”;

• § 192.917(e)(1): Removed “Appendix A7” and replaced it with “Appendix A-8”;

• § 192.917(e)(4): Removed “ASME/ANSI B31.8S, Appendices A4.3 and A4.4, and any” and replaced it with “ASME B31.8S, Appendices A-5.3 and A-5.4, and any”;

• § 192.921(a)(2): Removed “specified in Table 3 of section 5” and replaced it with “specified in Table 5.6.1-1 of Section 5”;

• § 192.923(b)(1): Removed “section 6.4” and replaced it with “Section 6.4”;

• § 192.933(c): Removed “section 7, Figure 4” and replaced it with “Section 7, Figure 7.2.1-1”;

• § 192.937(c)(2): Removed “table 3 of section 5” and replaced it with “Table 5.6.1-1 of Section 5”;

• § 192.939(a)(1)(ii): Removed “section 5, Table 3” and replaced it with “Table 5.6.1-1 of Section 5”; and

• § 192.939(a)(3): Removed “section 5, Table 3” and replaced it with “Table 5.6.1-1 of Section 5.”

PHMSA also notes that in August 2022, it concluded a rulemaking (first proposed in 2016) that amended, or introduced, several provisions referencing the ASME B31.8S industry standard being updated in this final rule.¹⁷ Pertinent provisions introduced or amended by the RIN2 Final Rule include the following: §§ 192.13(d); 192.714(c) and (d); 192.917(a) through (e); and 192.933(d)(1) and (d)(2)(iv)). PHMSA has compared the pertinent sections of each of those currently-referenced versions of ASME B31.8S against the updated version incorporated within the PSR by this final rule, and has concluded that application of that update to the regulatory provisions added or amended by the RIN2 Final Rule is technically feasible, reasonable, cost-effective, and practicable because it entails no additional compliance burdens for pipeline operators, while at the same time offering the same safety and environmental benefits (better alignment of the PSRs with the latest innovations in operational and management practices, materials, testing, and technological advancements; enhanced compliance by avoiding conflict between different versions of the same industry standards; and facilitation of safety-focused allocation of resources by pipeline operators) as other amendments adopted in this final rule. PHMSA notes that two of those provisions—specifically, §§ 192.714(d) and 192.933(d)(1) and (d)(2)(iv)—are the subject of a pending legal challenge brought by INGAA against the RIN2 Final Rule. PHMSA, therefore, has determined that in this final rule, it will not update references within §§ 192.714(d) and 192.933(d)(1) and (d)(2)(iv) to ASME B31.8S to reflect the 2018 version of that standard, but will in those two provisions continue to reference the 2004 version of ASME B31.8S. PHMSA may update those provisions to reference the 2018 version of ASME B31.8S in the future.

¹⁷ PHMSA, “Pipeline Safety: Safety of Gas Transmission Pipelines: Repair Criteria, Integrity Management Improvements, Cathodic Protection, Management of Change, and Other Related Amendments—Final Rule,” 87 FR 52224 (Aug. 24, 2022) (RIN2 Final Rule). The RIN2 Final Rule is currently the subject of a petition for judicial review. See INGAA v. PHMSA, et al., DC Cir. Case No. 23-1173.

D. API RP 651

PHMSA proposed to IBR the 4th edition of API RP 651 (Cathodic Protection of Aboveground Petroleum Storage Tanks) referenced in §§ 195.565 and 195.573(d). The PSRs currently reference the 3rd edition of this document, which describes practices and procedures regarding the use of cathodic protection to effectively control corrosion on aboveground storage-tank bottoms. It also includes provisions for the application of cathodic protection to new and existing aboveground storage tanks, and information and guidance regarding cathodic protection for aboveground metallic storage tanks in hydrocarbon service.

Both the American Fuel & Petrochemical Manufacturers and the Associations submitted comments regarding the 4th edition of API RP 651. The American Fuel & Petrochemical Manufacturers stated that it is concerned with the way the 4th edition of API RP 651 is being interpreted during field inspections, as it understood that some state regulatory authorities were interpreting API RP 651 as requiring all breakout tanks to have cathodic protection, even tanks not in direct contact with soil. The American Fuel & Petrochemical Manufacturers and the Associations stated that PHMSA should not consider double-bottomed tanks with an interstitial fill of concrete (not soil) or tanks on continuous concrete pads to be “buried” such that they would require cathodic protection pursuant to § 195.563. They stated that such tanks do not allow any part of the pipe through which hazardous liquid moves to come into contact with the upper layer of the earth and would like PHMSA to state definitively that cathodic protection is not required, consistent with their understanding of recommendations in the 4th edition of API RP 651 against it. Additionally, the Associations' joint comment asked PHMSA to clarify requirements in § 195.563 for the cathodic protection of double-bottom breakout tanks by referencing the 4th edition of API RP 651 and to allow operators to protect these tanks without requiring cathodic protection.

At the joint GPAC/LPAC meeting, an industry committee member from API requested that PHMSA clarify that the design of double-bottom tanks precludes the use of cathodic protection and asked that PHMSA allow operators to use alternative methods to protect these tanks form corrosion. Although the LPAC unanimously voted to recommend IBR of the updated version of API RP 651, it recommended that PHMSA include in the final rule preamble the suggestion by the industry stakeholder during the meeting. Because API RP 651 is not referenced within part 192, the GPAC neither discussed nor voted on this standard. After the GPAC/LPAC meeting, the AAG submitted a joint comment that included a discussion on the 4th edition of API RP 651. AAG stated that they supported LPA's recommendation to clarify appropriate application of the 4th edition of API RP 651. The AAG in particular called on PHMSA to state explicitly that the 4th edition of API RP 651 would not apply to El Segundo double-bottom tanks ¹⁸ or tanks on concrete not using cathodic protection to prevent corrosion. The AAG stated that they do not believe these tanks are “buried”—which they characterize § 195.553 as defining to mean “covered or in contact with soil”—and that therefore those tanks would not be required to have cathodic protection pursuant to § 195.563 or the risk-based framework in the most recent (5th edition) of API RP 653. The AAG called on PHMSA to IBR that most recent version of API RP 653.

¹⁸ AAG, in the joint comment, describes an El Segundo double-bottom tank as one “where the active tank floor is on contact with a concrete interstitial fill, and the secondary, inactive bottom is in contact with the soil.” For more information, please see the AAG joint comment. AAG Joint Comment, Docket No. PHMSA-2021-0069-0008 (Nov. 22, 2021), available at: https://www.regulations.gov/comment/PHMSA-2021-0069-0008.

PHMSA has considered those comments and the discussion during the GPAC/LPAC meeting and understands the application of § 195.563 by some state regulatory authorities is beyond the scope of this standards update rulemaking. PHMSA in the NPRM proposed simply to incorporate the 4th edition of API RP 651 into §§ 195.565 and 195.573(d) and did not propose changes in the regulatory text or interpretations affecting existing cathodic protection requirements for breakout tanks pursuant to a different PSR provision (§ 195.563) that does not explicitly reference API RP 651. PHMSA similarly did not propose to update the version of API RP 653 referenced in part 195. PHMSA notes, however, that it recently responded to a request for interpretation of §§ 195.553 and 195.563 that provides additional information on this issue as applied to specific pipeline facilities operated by Chemoil.¹⁹

¹⁹ PHMSA Interp. Resp. No. PI-20-0014 (Oct. 7, 2021), available at: https://www7.phmsa.dot.gov/regulations/title49/interp/PI-20-0014.

V. Summary of Final Rule and 1 CFR 51

This final rule incorporates the following updated industry standards and amendments into 49 CFR parts 192 and 195. Availability information for each standard is specified in Section I of this preamble, and a summary of each standard is detailed below and in Section II of the NPRM.

These updated industry standards are developed through agreed-upon procedures and adopted by domestic and international standard development organizations, ensuring the voluntary, consensus industry standards reflect modern technology and technology practices. PHMSA understands that reasonably prudent operators employ industry standards and best practices even when not required by PHMSA regulations. Thus, PHMSA finds that the new or updated editions of voluntary, consensus industry technical standards may already be observed and implemented voluntarily by reasonably prudent operators in order to protect the public, environment, and their commercially valuable product. PHMSA also notes that should an operator identify a compelling need for regulatory flexibility, the PSR provides for special permit procedures at § 190.341 to request a deviation from specific requirements.

Viewed against the considerations herein and the compliance costs estimated in the cost-benefit analysis in Section VI of this final rule, PHMSA finds the proposed amendments will be a cost-effective approach to achieving the commercial, public safety, and environmental benefits discussed in this final rule and its supporting documents. Lastly, PHMSA believes that operator compliance timelines—based on an effective date of the final requirement (60 days after the effective date of the final rule, which the timeline would necessarily be in addition to the time since issuance of the January 2021 NPRM) would provide operators ample time to implement requisite systems and manage any related compliance costs.

Thus, PHMSA finds that the discussion herein—in addition to the NPRM's discussion of the safety, environmental, and other benefits and detriments incorporated herein by reference—supports its conclusion that each of the regulatory amendments in this final rule are technically feasible, reasonable cost-effective, and practicable.

A. AMPP

• NACE SP0204-2015, “Stress Corrosion Cracking (SCC) Direct Assessment Methodology,” March 14, 2015.

This standard provides a process and a series of required steps for operators to use to assess the extent of stress-corrosion cracking on a section of buried pipeline. The methodology is designed as a screening tool to determine whether stress corrosion cracking is a substantial risk on a pipeline system.

[Replaces incorporated by reference (IBR): NACE SP0204-2008, “Standard Practice, Stress Corrosion Cracking (SSC) Direct Assessment Methodology,” September 18, 2008; Referenced in 49 CFR 195.588(c).]

B. API

• API RP 651, “Cathodic Protection of Aboveground Petroleum Storage Tanks,” 4th edition, September 2014.

Cathodic protection is a method of protecting metallic pipelines from corrosion. This recommended practice contains: (1) procedures and practices for effective corrosion control on aboveground storage tank bottoms using cathodic protection; (2) provisions for the application of cathodic protection to existing and new aboveground storage tanks; and (3) information and guidance for cathodic protection specific to aboveground metallic storage tanks in hydrocarbon service.

[Replaces ANSI/API RP 651, “Cathodic Protection of Aboveground Petroleum Storage Tanks,” 3rd edition, January 2007; Referenced in 49 CFR 195.565 and 195.573(d).]

• API RP 2026, “Safe Access/Egress Involving Floating Roofs of Storage Tanks in Petroleum Service,” 3rd edition, June 2017.

The 3rd edition of API RP 2026 (formerly API Publication 2026) addresses the hazards associated with access/egress onto external and internal floating roofs of in-service petroleum storage tanks. In a floating roof tank, the roof floats on top of product in the tank and rises and lowers with the level of product in the storage tank. Floating roofs minimize the creation of hazardous vapors above the product. A floating roof can be designed for use on a tank with no fixed roof (an external floating roof) or inside a tank with a fixed roof (internal floating roof).

[Replaces API Publication 2026, “Safe Access/Egress Involving Floating Roofs of Storage Tanks in Petroleum Service,” 2nd edition, issued April 1998, reaffirmed June 2006; Referenced in 49 CFR 195.405(b)].

• API Spec 5L, “Line Pipe,” 46th edition, April 2018; including Errata 1 (May 2018).

API Spec 5L is the primary manufacturing specification for seamless and welded steel pipe for use in gas, hazardous liquid, and carbon dioxide pipeline transportation systems. The specification does not cover cast pipe and non-steel pipe. The specification includes requirements for pipe material, manufacturing, quality control and testing, inspection, and pipe marking.

[Replaces API Spec 5L, “Specification for Line Pipe,” 45th edition, July 2013; Referenced in 49 CFR 192.55(e); 192.112(a), (b), (d), (e); 192.113; Section I of Appendix B in part 192; and 49 CFR 195.106(b), (e).]

• API Spec 6D, “Specification for Pipeline and Piping Valves,” 24th edition, August 2014, including Errata 1 (October 2014), Errata 2 (December 2014), Errata 3 (February 2015), Errata 4 (June 2015), Errata 5 (July 2015), Errata 6 (September 2015), Errata 7 (June 2016), Errata 8 (August 2016), Errata 9 (March 2017), Errata 10 (July 2021), Addendum 1 (March 2015), and Addendum 2 (June 2016).

API Spec 6D defines the design, manufacturing, assembly, testing, and documentation requirements for valves used in pipeline systems. PHMSA requires all valves on gas pipeline systems, other than those made of cast iron or plastic, to meet the requirements of API Spec 6D, or a national or international standard that provides an equivalent performance level of safety. Hazardous liquid and carbon dioxide pipeline valves must be shell-tested and seat-tested in accordance with API Spec 6D.

[Replaces ANSI/API Spec 6D, “Specification for Pipeline Valves,” 23rd edition, October 1, 2008, including Errata 1 (June 2008), Errata 2 (November 2008), Errata 3 (February 2009), Errata 4 (April 2010), Errata 5 (November 2010), Errata 6 (August 2011), Addendum 1 (October 2009), Addendum 2 (August 2011), and Addendum 3 (October 2012); Referenced in 49 CFR 192.145(a) and 195.116(d).]

• API Std 620, “Design and Construction of Large, Welded, Low-Pressure Storage Tanks,” 12th Edition, October 2013, including Addendum 1 (November 2014).

API Std 620 specifies design, construction, and testing requirements for large, field assembled, welded steel tanks used to store petroleum, petroleum products, or other liquids used in the petrochemical industry. Tanks designed, constructed, and tested in accordance with API Std 620 are rated to operate with a vapor pressure up to 15 psig and a metal temperature below 250 °F.

[Replaces API Std 620, “Design and Construction of Large, Welded, Low-Pressure Storage Tanks,” 11th Edition, February 2008; including Addendum 1 (March 2009), Addendum 2 (August 2010), and Addendum 3 (March 2012); Referenced in 49 CFR 195.132(b); 195.205(b); 195.264(b) and (e); 195.307(b); 195.565; and 195.579(d).]

• API Std 650, “Welded Tanks for Oil Storage,” 13th edition, March 1, 2020, including Errata 1 (January 2021).

This standard establishes minimum requirements for material, design, fabrication, erection, and inspection for vertical, cylindrical, aboveground, closed- and open-top, welded storage tanks in various sizes and capacities for internal pressures approximating atmospheric pressure. This standard applies only to tanks whose entire bottom is uniformly supported and to tanks in non-refrigerated service that have a maximum design temperature of 93°C (200 °F) or less. In part 195, breakout tanks associated with the transportation of hazardous liquids that are included in the scope of this standard must be designed, constructed, tested, and repaired in accordance with API Std 650.

[Replaces API Std 650, “Welded Steel Tanks for Oil Storage,” 11th edition, June 2007; including Addendum 1 (November 2008), Addendum 2 (November 2009), Addendum 3 (August 2011), and Errata (October 2011); Referenced in 49 CFR 195.132(b); 195.205(b); 195.264(b) and (e); 195.307(c) and (d); 195.565; and 195.579(d).]

• API Std 1104, “Welding of Pipelines and Related Facilities,” 21st edition, September 2013; including Errata 1 (2013), Errata 2 (2014), Errata 3 (2014), Errata 4 (2015), Errata 5 (2018), Addendum 1 (2014), and Addendum 2 (2016)—except for Note 2 in Section 5.4.2.2.

API Std 1104 is the primary standard for welding steel piping and for testing welds on steel pipelines. It covers the requirements for welding and nondestructive testing of pipeline welds. In the PSRs, this standard is used for qualifying welders, welding procedures, and welding operators, and interpreting the results of non-destructive tests.

[Replaces API Std 1104, “Welding of Pipelines and Related Facilities,” 20th edition, October 2005; including Errata/Addendum (July 2007) and Errata 2 (2008); Referenced in 49 CFR 192.225(a); 192.227(a); 192.229(b) and (c); 192.241(c); Section II of Appendix B in part 192; 195.214(a); 195.222(a) and (b); and 195.228(b).]

• API Std 2000, “Venting Atmospheric and Low-pressure Storage Tanks” 7th edition, March 2014.

This standard contains vapor-venting requirements for aboveground liquid petroleum product storage tanks, and aboveground and/or underground refrigerated storage tanks, all of which are designed for operation at pressures from full vacuum through 103.4 kPa (or 15 psig). Normal vapor venting refers to the inflow and outflow of vapor related to pressure changes inside the storage tanks. Emergency vapor venting relates to the inflow or outflow of vapor that may occur due to unforeseen circumstances. Vapor-venting requirements deal with the operation of vapor vents in response to temperature and pressure changes both inside and outside of a tank. Pressure normally accumulates inside most production or breakout storage tanks that contain various types of hazardous liquid. The new edition of this standard provides more information on equipment that stabilizes pressure within the tank by venting or depressurizing once the pressure within the tank reaches a certain level. The vapor-venting requirements in this standard elaborate on pipeline owners' obligations, including providing vapor-venting equipment guidelines.

[Replaces ANSI/API Std 2000, “Venting Atmospheric and Low-pressure Storage Tanks,” 6th edition, November 2009; Referenced in 49 CFR 195.264(e).]

• API Std 2350, “Overfill Prevention for Storage Tanks in Petroleum Facilities,” 5th Edition, September 1, 2020, including Errata 1 (April 2021).

This standard is intended for storage tanks associated with facilities that receive flammable and combustible petroleum liquids, such as refineries, marketing terminals, bulk plants, and pipeline terminals. It addresses minimum overfill and damage-prevention practices for aboveground storage tanks in petroleum facilities, including refineries, marketing terminals, bulk plants, and pipeline terminals that receive flammable and combustible liquids.

[Replaces API RP 2350, 3rd Edition (January 2005): Overfill Protection for Storage Tanks in Petroleum Facilities (API RP 2350); Referenced in 49 CFR 195.428(c).]

C. ASME

• ASME B31.8-2018, “Gas Transmission and Distribution Piping Systems,” November 20, 2018.

This standard covers safety requirements associated with the design, fabrication, installation, inspection, testing, and operation and maintenance of pipeline facilities used for the transportation of natural gas and liquefied petroleum gases when they are vaporized and used as gaseous fuels.

[Replaces ASME/ANSI B31.8-2007, “Gas Transmission and Distribution Piping Systems,” November 30, 2007; Referenced in 49 CFR 192.112(b); 192.619(a); 192.911(m); 195.5(a); and 195.406(a).]

• ASME B31.8S-2018, “Managing System Integrity of Gas Pipelines,” November 28, 2018.

ASME B31.8S describes the foundations for an effective integrity management (IM) program for gas transmission pipelines. Along with subpart O of part 192, ASME B31.8S provides the essential features of an integrity management program. Section 3.2 of B31.8S addresses the potential impact factor for gases other than standard quality natural gas that may be transported through a gas transmission pipeline. Other sections are as follows: Section 4—Gathering, Reviewing and Integrating Data; Section 5—Risk Assessment and Reassessment Intervals; Section 6.2—Selection of In-line Inspection Tools (ILI); Section 6.4—Direct Assessment Requirements for External Corrosion and Internal Corrosion; Section 7—Remediation Schedule and Immediate Repair Requirements; Section 9—Performance Plan and Program Effectiveness; Section 10—Communications Plan; Section 11—Management of Change Process; Section 12—Quality Assurance Process; Appendix A—Data Requirements of Each Threat; Appendix A3—Direct Assessment Requirements for the Stress Corrosion Cracking (SCC) Threat; Appendix 4.3 and 4.4—Criteria and Risk Assessment and Integrity Assessment for the Manufacturing Threat; and Appendix A7—Criteria and Risk Assessment and Integrity Assessment, Response, and Mitigation and Performance Measures for the Third Party Damage Threat.

[Replaces ASME/ANSI B31.8S-2004 “Supplement to B31.8 on Managing System Integrity of Gas Pipelines,” January 14, 2005; Referenced in 49 CFR 192.13(d); 192.712(b); 192.714(c); 192.903; 192.907; 192.907(b); 192.911; 192.911(i), and (k) through (m); 192.913(a) through (c); 192.917(a) through (e); 192.921(a); 192.923(b); 192.925(b); 192.933(c); 192.935(b); 192.937(c); 192.939(a); and 192.945(a).]

As explained in section IV.C. above, PHMSA will retain existing references to the 2004 version of ASME B31.8S within §§ 192.714(d), and 192.933(d)(1) and (d)(2)(iv).

• ASME B36.10M-2018 “Welded and Seamless Wrought Steel Pipe,” October 12, 2018.

ASME B36.10M specifies standards for dimensions of welded and seamless wrought steel pipe for high or low temperatures and pressures. This standard replaces the current reference in § 192.279 to Table C1 of ASME/ANSI B16.5. The 2003 and subsequent editions of ASME/ANSI B16.5 remove Table C1; that information is now in ASME B36.10M-2018. Therefore, PHMSA is revising § 192.279 to replace the phrase “listed in Table C1 of ASME/ANSI B16.5” with “listed in ASME B36.10M.”

[Replaces Table C1 of ASME/ANSI B16.5; Referenced in 49 CFR 192.279.]

D. ASTM International

• ASTM A53/A53M-20, “Standard Specification for Pipe, Steel, Black, and Hot-Dipped, Zinc-Coated, Welded and Seamless,” July 1, 2020.

ASTM A53/A53M specifies the design for seamless and welded black and hot-dipped galvanized steel pipe in nominal pipe size (NPS) ⅛ to NPS 26. The standard also specifies requirements for tests of material properties, hydrostatic tests, and non-destructive tests.

[Replaces ASTM A53/A53M-10, “Standard Specification for Pipe, Steel, Black and Hot-Dipped, Zinc-Coated, Welded and Seamless,” October 1, 2010; Referenced in 49 CFR 192.113; Section II of Appendix B in part 192; and 195.106(e).]

• ASTM A106/A106M-19A, “Standard Specification for Seamless Carbon Steel Pipe for High-Temperature Service,” November 1, 2019.

ASTM A106/A106M specifies standards for seamless carbon steel pipe appropriate for high-temperature service. Pipe meeting this specification is suitable for bending, flanging, and welding. The updates added since the 2010 edition currently incorporated by reference include clarifying the supplementary requirements in the ordering information, as well as the definition of single or double random lengths of pipe with single random joints allowed from 17 to 24-foot lengths and double random joints being between 36 and 44 feet.

[Replaces ASTM A106/A106M-10, “Standard Specification for Seamless Carbon Steel Pipe for High-Temperature Service,” October 1, 2010; Referenced in 49 CFR 192.113; Section I of Appendix B in part 192; and 195.106(e).]

• ASTM A333/A333M-18, “Standard Specification for Seamless and Welded Steel Pipe for Low-Temperature Service and Other Applications with Required Notch Toughness,” November 1, 2018.

ASTM A333/A333M specifies standards for nominal (average) wall seamless and welded carbon and alloy steel pipe intended for use at low temperatures. The standard addresses chemical, tensile strength, mechanical testing, and other requirements.

[Replaces ASTM A333/A333M-11, “Standard Specification for Seamless and Welded Steel Pipe for Low-Temperature Service,” April 1, 2011; Referenced in 49 CFR 192.113; Section I of Appendix B in part 192; and 49 CFR 195.106(e).]

• ASTM A381/A381M-18, “Standard Specification for Metal-Arc-Welded Carbon or High-Strength Low-Alloy Steel Pipe for Use with High-Pressure Transmission Systems,” November 1, 2018.

ASTM A381/A381M specifies standards for straight seam, double-submerged arc-welded steel pipe (commonly referred to as DSAW pipe as opposed to spiral-welded or electric-resistance-welded pipe) that is intended for the fabrication of fittings and accessories for compressor or pump-station piping and is suitable for high-pressure service at outside diameters of 16 inches or greater.

[Replaces ASTM A381-96, “Standard Specification for Metal-Arc Welded Steel Pipe for Use with High-Pressure Transmission Systems,” reaffirmed October 1, 2005; Referenced in 49 CFR 192.113; Section I of Appendix B in part 192; and 195.106(e).]

• ASTM A671/A671M-20, “Standard Specification for Electric-Fusion-Welded Steel Pipe for Atmospheric and Lower Temperatures,” March 1, 2020.

ASTM A671/A671M specifies the design, fabrication, and testing requirements for electric-fusion-welded (as opposed to arc-welded) steel pipe with added filler metal. Specifically, the specification applies to pipe fabricated from pressure vessel quality steel plates suitable for use at high pressures at atmospheric and lower temperatures.

[Replaces ASTM A671/A671M-10, “Standard Specification for Electric-Fusion-Welded Steel Pipe for Atmospheric and Lower Temperatures,” April 1, 2010; Referenced in 49 CFR 192.113; Section I of Appendix B in part 192; and 195.106(e).]

• ASTM A691/A691M-19, “Standard Specification for Carbon and Alloy Steel Pipe, Electric-Fusion-Welded for High-Pressure Service at High Temperatures,” November 1, 2019.

ASTM A691/A691M specifies the design, composition, fabrication, and testing of carbon and alloy steel pipe.

[Replaces ASTM A691/A691M-09, “Standard Specification for Carbon and Alloy Steel Pipe, Electric-Fusion-Welded for High-Pressure Service at High Temperatures,” October 1, 2009; Referenced in 49 CFR 192.113; Section I of Appendix B in part 192; and 49 CFR 195.106(e).]

E. The Manufacturers Standardization Society of the Valve and Fittings Industry, Inc.

• ANSI/MSS SP-44-2019, “Steel Pipeline Flanges,” April 2020.

MSS SP-44 covers pressure-temperature ratings, materials, dimensions, tolerances, marking, and testing of steel pipeline flanges.

[Replaces MSS SP-44-2010, “Standard Practice, Steel Pipeline Flanges,” 2010 edition, including Errata (May 20, 2011); Referenced in 49 CFR 192.147(a).]

• MSS SP-75-2019, “High-Strength, Wrought, Butt-Welding Fittings,” December 2019.

MSS SP-75 specifies requirements for factory-made, seamless, and electric-welded carbon and low-alloy steel butt-welding fittings. MSS SP-75 is applicable to fittings used in high-pressure gas and oil transmission and distribution systems, including pipelines, compressor stations, metering and regulating stations, and mains.

[Replaces MSS SP-75-2008, “Specification for High Test, Wrought, Butt-Welding Fittings,” June 1, 2009; Referenced in 49 CFR 195.118(a).]

F. National Fire Protection Association (NFPA)

• NFPA 58, “Liquefied Petroleum Gas Code,” 2020 edition, August 25, 2019.

NFPA 58 specifies requirements for the “storage, handling, transportation, and use of liquefied petroleum gas.” The PSRs require any plant that supplies liquefied petroleum to a pipeline system and any pipeline system that transports only petroleum gas or petroleum gas mixtures to meet the requirements of NFPA 58 in addition to the requirements of part 192.

[Replaces NFPA 58, “Liquefied Petroleum Gas Code,” 2004 edition, April 1, 2004; Referenced in 49 CFR 192.7; and 192.11(a) through (c).]

• NFPA 59, “Utility LP-Gas Plant Code,” 2018 edition, September 6, 2017.

NFPA 59 specifies the design, construction, location, installation, operation, and maintenance of utility gas plants. Compared to NFPA 58, NFPA 59 generally covers larger facilities.

[Replaces NFPA 59, “Utility LP-Gas Plant Code,” 2004 edition, April 1, 2004; Referenced in 49 CFR 192.11(a) through (c).]

• NFPA 70, “National Electrical Code,” 2017 edition, August 24, 2016.

NFPA 70, also known as the National Electrical Code (NEC), covers the installation and removal of electrical equipment, conductors, and conduits in structures and outdoor areas. The NEC is a foundational standard for electrical safety in residential, commercial, and industrial implementations.

[Replaces NFPA 70, “National Electrical Code,” 2011 edition (September 24, 2010); Referenced in 49 CFR 192.163(e) and 192.189(c).]

G. Miscellaneous Amendments

PHMSA is also incorporating miscellaneous editorial amendments and corrections to the PSRs. Some of these revisions respond to a petition for rulemaking from the AGA. In addition to petitioning PHMSA to incorporate the most recent edition of NFPA 59 by reference, the AGA suggested edits to 49 CFR 192.11 that would clarify the scope of NFPA 58 and NFPA 59. The PSRs currently require operators of liquefied petroleum pipeline facilities to meet the requirements of both NFPA 58 and NFPA 59, but the change clarifies that operators must only satisfy the requirements for the NFPA standard that, based on the scope and applicability statements in NFPA 58 and NFPA 59, is applicable to the type of facility they operate. Generally, NFPA 58 applies to liquefied petroleum pipeline systems and NFPA 59 to utility-scale liquefied petroleum gas plants. PHMSA has considered this proposed clarification and is adopting the recommended editorial revision to 49 CFR 192.11 in this final rule.

Another revision recommended by AGA and which PHMSA adopts in this final rule corrects the minimum wall thickness tables in 49 CFR 192.121 for plastic pipe that is made of polyethylene (PE), polyamide (PA) PA11, and PA12 to include specifications for pipe with a copper tubing sizes (CTS) of 1¼ inches and to correct the minimum wall thickness for 1-inch CTS pipe. The minimum wall thickness—and, more specifically, the dimension ratio, which is the ratio of outside diameter to wall thickness—is consistent with values already specified for adjacent sizes. Plastic pipe, especially PE, is very common on gas distribution systems. On November 20, 2018, PHMSA published a final rule that allowed plastic pipe to operate with a design factor (a derating factor) of 0.4 rather than 0.32 as long as it met various requirements, including a minimum wall thickness that matched the definitions in the tables in 49 CFR 192.121.²⁰ As described in that 2018 final rule and its supporting RIA, as well as the AGA's petition for rulemaking, the revised design factor allows the use of approximately 17 percent less material or 11 percent higher capacity for a given outside specification.

²⁰ PHMSA, “Pipeline Safety: Plastic Pipe Rule—Final Rule,” 83 FR 58694 (Nov. 20, 2018).

The NPRM included listings for copper tubing sizes (CTS) of ½ and ¾ inches for polyethylene (PE) pipe. In response to comments, PHMSA included CTS sizes for polyamide (PA) PA11 and PA12 pipe, as well as iron pipe sizes (IPS) below 1 inch for all materials. However, stakeholders subsequently requested that PHMSA also consider including 1¼-inch CTS. This amendment allows the use of 1¼-inch CTS pipe with a 0.4 design factor provided that the pipe wall is at least 0.121 inches thick. A wall thickness of 0.121 corresponds to a dimension ratio of approximately 11, which is the same standard dimension ratio (SDR) that is currently permitted for 1¼-inch IPS, 1-inch CTS, and 1-inch IPS. This change reduces the cost to produce this size of plastic pipe by approximately 10 percent. The revised design factor is already permitted for similar, adjacent sizes such as 1¼-inch IPS pipe, and it was not PHMSA's intent to exclude specifications such as 1¼-inch CTS. The costs and benefits of this change were accounted for in the RIA for the 2018 final rule.

PHMSA also adopts in this final rule other technical and editorial revisions proposed in the NPRM, including the following:

• Updating reference to PHMSA's website (https://portal.phmsa.dot.gov/) in § 195.58;

• Copying the definition for a master meter system that is used in part 191 to part 192. The term “master meter system” is referenced in both part 191 and part 192; however, it is only defined in § 191.3 of part 191. This rule adds the definition to § 192.3 of part 192;

• Clarifying reference to flange requirements in § 192.147(a) to specify that flanges must meet ASME B16.5, ANSI/MSS SP-44, or the equivalent;

• Correcting the placement of the word “in” in § 192.153(d);

• Removing a reference to an inactive phone number for the National Pipeline Mapping System (NPMS) program in § 192.727(g) and 195.59(a);

• Removing references to § 195.242(c) and (d) in § 195.1(c) because this section no longer exists in the regulations;

• Correcting § 195.3(c)(3) to reflect that ASME B31.4 is no longer referenced in § 195.452(h); and

• Revising § 192.307(c) references to API 650 sections 7.3.5 and 7.3.6 because the testing requirements were moved to sections 7.3.6 and 7.3.7, respectively, in the updated edition of API 650.

VI. Regulatory Analyses and Notices

Summary/Legal Authority for This Rule

This final rule is published under the authority of the Secretary of Transportation delegated to the PHMSA Administrator pursuant to 49 CFR 1.97. Among the statutory authorities delegated to PHMSA are those set forth in the Federal pipeline safety statutes (49 U.S.C. 60101 et seq.). 49 U.S.C. 60102 grants authority, to the extent appropriate and practicable, to the Secretary to update incorporated, voluntary, consensus industry technical standards that were adopted as part of the PSRs to protect public safety and the environment.

This final rule incorporates by reference more than 20 updated industry standards. In addition, this final rule makes several other minor clarifying and editorial changes to the PSRs.

Executive Orders 12866 and 14094; DOT Regulatory Policies and Procedures

Executive Order 12866 (“Regulatory Planning and Review”), as amended by Executive Order 14094 (“Modernizing Regulatory Review”), requires that agencies “should assess all costs and benefits of available regulatory alternatives, including the alternative of not regulating.” ²¹ Agencies should consider both quantifiable measures and qualitative measures of costs and benefits that are difficult to quantify. Further, Executive Order 12866 requires that agencies “should select those [regulatory] approaches that maximize net benefits (including potential economic, environmental, public health and safety, and other advantages, as well as distributive impacts and equity), unless a statute requires another regulatory approach.” Similarly, DOT Order 2100.6A (“Rulemaking and Guidance Procedures”) requires PHMSA and other DOT operating administrations to consider an assessment of the potential benefits, costs, and other important impacts of the proposed action; they should also quantify (to the extent practicable) the benefits, costs, and any significant distributional impacts, including any environmental impacts.

²¹ Executive Order 12866 is available at 58 FR 51735 (Oct. 4, 1993); Executive Order 14094 is available at 88 FR 21879 (Apr. 6, 2023).

Executive Order 12866 (as amended by Executive Order 14094) and DOT Order 2100.6A require that PHMSA submit “significant regulatory actions” to the OMB for review. However, this final rule is not considered a significant regulatory action under Executive Order 12866 and, therefore, was not subject to review by the OMB. Further, the DOT considers this final rule to be non-significant pursuant to DOT Order 2100.6A.

In accordance with the NTTAA and OMB Circular A-119, PHMSA constantly reviews new editions and revisions to relevant voluntary, consensus industry technical standards, and publishes a proposed rule every two to three years to incorporate new or updated industry standards by reference. This practice is consistent with the intent of the NTTAA and OMB directives to avoid the need to develop government standards that could potentially result in regulatory conflicts with updated standards and an increased compliance burden for industry.

PHMSA expects that the changes to the PSRs described in this final rule will result in unquantified public safety and environmental benefits associated with the updated industry standards. Although, as discussed above, many of the changes within the updated industry standards for incorporation within the PSRs are editorial revisions or clarifications, others consist of substantive changes that reflect advancements in the state of knowledge (based on developments in technology, testing, materials, and practical experience memorialized within operational and management practices) compared to earlier versions of the same standards. PHMSA's technical review of those updated industry standards concluded that their incorporation would enhance the protection of public safety and the environment.

Further, PHMSA expects the administrative burden for stakeholders stemming from the incorporation of these updated industry standards will be negligible and the net economic benefits will be high. According to the annual reports that operators submit to PHMSA, there are more than 2,813 entities operating distribution systems and facilities for gas and hazardous liquid (as well as carbon dioxide) pipeline facilities subject to part 192 or 195 as of May 23, 2021. In fact, updates to industry standards are generally accepted and followed on a voluntary basis throughout most of the pipeline industry. PHMSA understands that the majority of pipeline operators already purchase and voluntarily apply industry standards—including the updated industry standards that are the subject of this rulemaking—within their ordinary business practices. Incorporation of the updated industry standards within the PSRs will help ensure the industry is not forced to incur the additional cost of complying with different versions of the same standards.

In addition to incorporating updated industry standards into the PSRs, PHMSA is adopting non-substantive editorial changes and clarifications of certain provisions of regulatory language. Since these editorial changes are minor, this final rule will not require pipeline operators to undertake significant new pipeline safety initiatives and would have negligible cost implications. The non-substantive changes will increase the clarity of the pipeline safety regulations, thereby improving compliance and helping to ensure the safety of the Nation's pipeline systems.

Executive Order 13132: Federalism

PHMSA analyzed this final rule in accordance with the principles and criteria contained in Executive Order 13132 (“Federalism”) ²² and the Presidential Memorandum titled “Preemption.” ²³ Executive Order 13132 requires agencies to ensure meaningful and timely input by State and local officials regarding the development of regulatory policies that may have “substantial direct effects on the States, on the relationship between the national government and the States, or on the distribution of power and responsibilities among the various levels of government.”

²² 64 FR 43255 (Aug. 10, 1999).

²³ 74 FR 24693 (May 22, 2009).

The regulatory amendments in this final rule will not have a substantial direct effect on State or local governments; the relationship between the national government and the States; or the distribution of power and responsibilities among the various levels of government. In addition, this rule will not impose substantial direct compliance costs on State or local governments. While the final rule's revisions may operate to preempt some State requirements, it will not impose any regulation that has substantial direct effects on the States; the relationship between the national government and the States; or the distribution of power and responsibilities among the various levels of government.

Section 60104(c) of the Federal pipeline safety laws prohibits State safety regulation of interstate pipelines. Under the Federal pipeline safety laws, States that have submitted a current certification under 49 U.S.C. 60105(a) must adopt the minimum Federal pipeline safety requirements for intrastate pipelines and may adopt additional or more stringent requirements so long as they are compatible. A State may also regulate an intrastate pipeline facility that PHMSA does not regulate.

In this instance, the preemptive effect of the final rule is limited to the minimum level necessary to achieve the objectives of the Federal pipeline safety laws. Therefore, PHMSA has determined that the consultation and funding requirements of Executive Order 13132 do not apply to this final rule.

Executive Order 13175: Consultation and Coordination With Indian Tribal Governments

PHMSA analyzed this final rule according to the principles and criteria in Executive Order 13175 (“Consultation and Coordination with Indian Tribal Governments”) ²⁴ and DOT Order 5301.1A (“Department of Transportation Tribal Consultation Policy and Procedures”). Executive Order 13175 requires agencies to ensure meaningful and timely input from Tribal government representatives during the development of rules that significantly or uniquely affect Tribal communities by imposing “substantial direct compliance costs” or “substantial direct effects” on such communities, or the relationship or distribution of power between the Federal Government and Tribes.

²⁴ 65 FR 67249 (Nov. 6, 2000).

PHMSA assessed the impact of the final rule's revisions and concluded that they will not significantly or uniquely affect Tribal communities or Tribal governments. The rule's regulatory amendments are facially neutral and will have broad, national scope; PHMSA, therefore, does not expect this rule would significantly or uniquely affect Tribal communities, much less that it will impose substantial compliance costs on Native American Tribal governments or mandate Tribal action. Insofar as PHMSA expects that the rule will improve safety and reduce environmental risks, PHMSA finds that it will not entail disproportionately high adverse risks for Tribal communities. Therefore, PHMSA concludes that the funding and consultation requirements of Executive Order 13175 and DOT Order 5301.1A do not apply.

Regulatory Flexibility Act and Executive Order 13272

The Regulatory Flexibility Act, as amended by the Small Business Regulatory Flexibility Fairness Act of 1996 (5 U.S.C. 601 et seq.), generally requires Federal agencies to prepare a final regulatory flexibility analysis for a final rule subject to notice-and-comment rulemaking under the Administrative Procedure Act. 5 U.S.C. 603(a).²⁵ Executive Order 13272 (“Proper Consideration of Small Entities in Agency Rulemaking”) ²⁶ obliges agencies to establish procedures promoting compliance with the Regulatory Flexibility Act; DOT's implementing guidance is available on its website.²⁷

²⁵ Agencies are not required to conduct a regulatory flexibility analysis if the head of the agency certifies that the rule will not have a significant impact on a substantial number of small entities. 5 U.S.C. 605.

²⁶ 67 FR 53461 (Aug. 16, 2002).

²⁷ DOT, “Rulemaking Requirements Concerning Small Entities,” https://www.transportation.gov/regulations/rulemaking-requirements-concerning-small-entities (last updated May 18. 2012).

This final rule was developed in accordance with Executive Order 13272 and DOT guidance to ensure compliance with the Regulatory Flexibility Act and provide appropriate consideration of the potential impacts of the rulemaking on small entities. PHMSA has concluded that the costs of incorporating these updated voluntary, consensus industry technical standards within the PSRs will be negligible. PHMSA understands that updates to industry standards are generally accepted and followed on a voluntary basis throughout most of the pipeline industry; the majority of pipeline operators already purchase and voluntarily apply industry standards—including the updated standards that are the subject of this rulemaking—within their ordinary business practices. Further, incorporating such standards by reference helps to ensure that the industry is not forced to comply with competing versions of the same industry standards. Similarly, PHMSA does not expect the miscellaneous editorial and clarifying revisions in this rulemaking will impose meaningful compliance costs on operators. Therefore, based on the available information regarding the anticipated impact of this final rule, PHMSA certifies that this rule will not have a significant economic impact on a substantial number of small entities.

Paperwork Reduction Act

Pursuant to 5 CFR 1320.8(d), PHMSA is required to provide interested members of the public and affected agencies with an opportunity to comment on information collection and recordkeeping requests. In accordance with 5 CFR 1320.8(d), PHMSA analyzed this final rule in accordance with the Paperwork Reduction Act of 1995 (44 U.S.C. 3501 et seq.), which establishes policies and procedures for controlling paperwork burdens imposed by Federal agencies on the public and requires Federal agencies to minimize the burden of paperwork imposed on the U.S. public by ensuring maximum utility and quality of Federal information. This allowed for the use of information technology to improve the Federal Government's performance and accountability regarding the management of information-collection activities. This final rule does not impose any new information-collection requirements or modify any existing information-collection requirements.

Unfunded Mandates Reform Act of 1995

The Unfunded Mandates Reform Act (2 U.S.C. 1501 et seq.) requires agencies to assess the effects of Federal regulatory actions on State, local, and Tribal governments, and the private sector. For any NPRM or final rule that includes a Federal mandate that may result in the expenditure by State, local, or Tribal governments, in an aggregate of $100 million or more (in 1996 dollars) in any given year, the agency must prepare, among other things, a written statement that qualitatively and quantitatively assesses the costs and benefits of the Federal mandate.

As explained in the above discussion of Executive Order 12866, PHMSA does not expect that the final rule will impose enforceable duties of $100 million or more (in 1996 dollars) in any one year on either State, local, or Tribal governments or on the private sector. Therefore, the requirement to prepare a statement pursuant to Unfunded Mandates Reform Act does not apply.

Privacy Act Statement

In accordance with 5 U.S.C. 553(c), the DOT solicits comments from the public to better inform its rulemaking process. The DOT posts these comments without edit, including any personal information the commenter provides, to https://www.regulations.gov/. This is described in the system of records notice (DOT/ALL-14 FDMS), which can be reviewed at https://www.dot.gov/privacy.

Regulation Identifier Number

A regulation identifier number (RIN) is assigned to each regulatory action listed in the Unified Agenda of Regulatory and Deregulatory Actions (Unified Agenda). The RIN contained in the heading of this document can be used to cross-reference this action with the Unified Agenda.

Final Environmental Assessment

The National Environmental Policy Act of 1969 (NEPA, 42 U.S.C. 4321 et. seq.) requires Federal agencies to prepare a detailed statement on major Federal actions that significantly affect the quality of the human environment. The Council on Environmental Quality's implementing regulations (40 CFR parts 1500-1508) require Federal agencies to conduct an environmental review that considers (1) the need for the action; (2) alternatives to the action; (3) the probable environmental impacts of the action and alternatives; and (4) the agencies and individuals consulted during the consideration process. DOT Order 5610.1C (“Procedures for Considering Environmental Impacts”) establishes departmental procedures for the evaluation of environmental impacts under NEPA and its implementing regulations. In this final rule, PHMSA incorporates more than 20 updated industry standards.

PHMSA has completed an Environmental Assessment and concluded that an environmental impact statement will not be required for this rulemaking because it will not have a significant impact on the human environment. To the extent that the final rule will impact the environment, those impacts will be primarily beneficial impacts enhancing the PSR's protection of public safety and the environment by incorporating updated industry standards.

Description of Action: The NTTAA directs Federal agencies to use industry standards and design specifications developed by voluntary consensus standard bodies instead of government-developed standards, when applicable. There are currently more than 80 standards incorporated in parts 192, 193, and 195 of the PSRs.

PHMSA engineers and subject matter experts participate on 25 standards development committees to keep current on committee actions. PHMSA only adopts standards into the Federal regulations that meet the Agency's directive(s) to ensure the best interests of public and environmental safety are served.

Purpose and Need: Many of the industry standards currently incorporated in the PSRs have been revised and updated to incorporate and promote new technologies and methodologies. This final rule allows operators to use new technologies by incorporating new editions of the standards into the PSRs.

PHMSA's technical and subject matter experts continually review the actions of pipeline standards-developing committees and study industry safety practices to ensure that PHMSA's endorsement of any new editions or revised industry standards incorporated into the PSRs will improve public safety and provide protection for the environment. If PHMSA does not amend the PSRs to keep up with industry practices, it could potentially have an adverse effect on the safe transportation of energy resources.

These amendments make the regulatory provisions more consistent with current technology and therefore promote the safe transportation of hazardous liquids, natural and other gases, and liquefied natural gas by pipeline.

Alternatives Considered: In developing this final rule, PHMSA considered two alternatives:

Alternative (1): Take no action and continue to incorporate only the existing standards currently referenced in the PSRs. Because PHMSA's goal is to facilitate pipeline safety and incorporate appropriate and up-to-date industry standards, PHMSA rejected the no-action alternative. This alternative potentially results in forgoing the safety and environmental improvements in the updated standards.

Selected Alternative (2): Adopt the above-described amendments and incorporate updated editions of industry standards as described in the NPRM and this final rule, including cited material. This is the selected alternative. PHMSA's goal is to incorporate updated editions of industry standards by reference into the PSRs when appropriate to facilitate pipeline operators to use current technology, new materials, and other management practices. Another goal is to update and clarify certain provisions in the regulations.

Environmental Consequences: The Nation's pipelines are located throughout the United States, both onshore and offshore, and traverse a variety of environments that range from highly populated urban sites to remote, unpopulated, rural areas and ecologically sensitive environments. The Federal pipeline regulatory system is a risk-management system that is prevention-oriented and focused on identifying safety hazards and reducing the likelihood and quantity of a gas or hazardous liquid (or carbon dioxide) release. Pipeline operators are required to develop and implement IM programs to enhance safety by identifying and reducing pipeline integrity risks.

Pipelines subject to this final rule transport hazardous liquids (as well as carbon dioxide) and gas, and therefore, a spill or leak of the product could affect the physical environment as well as the health and safety of the public. The release of hazardous liquids (as well as carbon dioxide) or gas can cause the loss of cultural and historical resources (e.g., properties listed on the National Register of Historic Places); biological and ecological resources (e.g., coastal zones, wetlands, plant and animal species and their habitats, forests, grasslands, or offshore marine ecosystems); special ecological resources (e.g., threatened and endangered plant and animal species and their habitats, national and State parklands, biological reserves, or wild and scenic rivers); and the contamination of air, water resources (e.g., oceans, streams, or lakes), and soil that exists directly adjacent to and within the vicinity of pipelines. Incidents involving pipelines can result in fires and explosions, causing damage to the local environment. Depending on the size of a spill, carbon dioxide release, or gas leak, and the nature of the failure zone, the potential impacts could vary from property or environmental damage, to injuries or, on rare occasions, fatalities.

Compliance with the PSRs substantially reduces the possibility of an accidental release of product. Incorporating new industry standards or updating those already incorporated into the PSRs can provide operators with the advantages and added safety that can accompany the use of newer technologies. These standards are based on the shared knowledge and experience of owners, operators, manufactures, risk-management experts, and others involved in the pipeline industry, as well as regulatory agencies like PHMSA and state DOTs. PHMSA staff actively participates in the standards development process to ensure that each incorporated standard will enhance pipeline safety and environmental protection. Newer editions are not automatically incorporated, but instead reviewed in detail before they may be incorporated into the PSRs.

PHMSA reviewed each of the standards described in this rule and determined that most of the updates involve minor changes, such as editorial changes, the inclusion of best practices, or similar changes. The majority of updates incorporated in this final rule increase pipeline safety standards to decrease risk. In a small number of instances, standards organizations relax standards to reduce industry burden when justified by low risk, overlapping protections, or technological innovation within the same standard. Provisions that allow for relaxation are the less-conservative-design sloshing wave-height calculations in the revised edition of API Std 650; the provisions in the 21st edition of API Std 1104 that allow welders who are qualified in a fixed position to also be qualified to weld in the roll position; and the elimination of the need to calculate evaporation rates in the 7th edition of API Std 2000. PHMSA has determined that each of these updates maintains and provides adequate protection against applicable risks, and that the safety improvements elsewhere in API Std 650, API Std 1104, and API Std 2000 offset these changes.

Environmental Justice: Executive Order 12898 (“Federal Actions to Address Environmental Justice in Minority Populations and Low-Income Populations”),²⁸ directs Federal agencies to take appropriate and necessary steps to identify and address disproportionately high and adverse effects of Federal actions on the health or environment of minority and low-income populations “[t]o the greatest extent practicable and permitted by law.” DOT Order 5610.2C (“U.S. Department of Transportation Actions to Address Environmental Justice in Minority Populations and Low-Income Populations”) establishes departmental procedures for effectuating Executive Order 12898 by promoting and fully considering the principles of environmental justice throughout the planning and decision-making process when developing programs, policies, and activities—including PHMSA rulemaking.

²⁸ 59 FR 7629 (Feb. 16, 1994).

PHMSA evaluated this final rule according to DOT Order 5610.2C and Executive Order 12898 and has determined that it will not cause disproportionately high and adverse human health and environmental effects on minority populations and low-income populations. The final rule is national in scope; it is neither directed toward a particular population, region, or community, nor is it expected to adversely impact any particular population, region, or community. Indeed, because this rule will generally reduce safety and environmental risks, PHMSA understands the regulatory amendments will reduce any disproportionate human health and environmental risks for minority populations, low-income populations, or other underserved and disadvantaged communities in the vicinity of pipelines within the scope of the rule's amendments. Lastly, the regulatory amendments will yield reductions in greenhouse gas emissions, thereby reducing the risks posed by anthropogenic climate change to minority and low-income populations, and historically underserved and other traditionally disadvantaged populations and communities.

The above findings are also consistent with E.O. 14096 (“Revitalizing Our Nation's Commitment to Environmental Justice for All”) ²⁹ by achieving several goals, including continuing to deepen the Biden-Harris Administration's whole of government approach to environmental justice and to better protect overburdened communities from pollution and environmental harms.

²⁹ 88 FR 25251 (April 26, 2023).

Public Involvement: On October 21, 2021, PHMSA held a virtual public meeting to discuss periodic standards updates and inform this rulemaking. During this meeting, members of the public, Tribal government and Tribal advocacy representatives, State pipeline safety program representatives, pipeline safety advocacy groups, first responders and emergency response organizations, and industry experts provided information and feedback on a variety of topics, including current regulations, public perspectives, and public comments from the NPRM. The meeting included many opportunities for questions and public input. PHMSA also opened a docket in coordination with the public meeting to receive additional input during and in response to the meeting, which can be found at: https://www.regulations.gov/docket/PHMSA-2021-0069. The full transcripts of the meeting can be found at: https://primis.phmsa.dot.gov/meetings/MtgHome.mtg?mtg=156.

Conclusion—Finding of No Significant Impact (FONSI): Based on the analysis summarized in this Final Environmental Assessment, the analysis provided in the NPRM, this final rule, and accompanying documents in Docket No. PHMSA-2016-0002, PHMSA finds that the final rule does not result in a significant impact on the human or natural environment. Overall, the final rule is expected to have a positive environmental impact by incorporating industry standards that will allow the pipeline industry to use improved technologies, new materials, performance-based approaches, manufacturing processes, and other practices to enhance public health, safety, and welfare. PHMSA's goal is to ensure hazardous liquids, natural and other gases, and liquefied natural gas transported by pipeline will arrive safely to their destinations. In accordance with NEPA, PHMSA solicited comments on the environmental and safety impacts of the proposed rule. All comments received during this period were addressed in the final rule. None of the comments concerned the environmental assessment specified in the proposed rule. Therefore, PHMSA is issuing a Finding of No Significant Impact (FONSI) thus concluding the NEPA process for this rulemaking.

Executive Order 13211: Significant Energy Actions

Executive Order 13211 (“Actions Concerning Regulations That Significantly Affect Energy Supply, Distribution, or Use”) ³⁰ requires Federal agencies to prepare a Statement of Energy Effects for any “significant energy action.” Executive Order 13211 defines a “significant energy action” as any action by an agency (normally published in the Federal Register) that promulgates or is expected to lead to the promulgation of a final rule or regulation that (1)(i) is a significant regulatory action under Executive Order 12866 or any successor order, and (ii) is likely to have a significant adverse effect on the supply, distribution, or use of energy; or (2) is designated by the Administrator of the Office of Information and Regulatory Affairs (OIRA) as a significant energy action.

³⁰ 66 FR 28355 (May 22, 2001).

This final rule will not be a “significant energy action” under Executive Order 13211. It will not have a significant adverse effect on the supply, distribution, or use of energy. Further, OIRA has not designated this final rule as a significant energy action.

Executive Order 13609 and International Trade Analysis

Executive Order 13609 (“Promoting International Regulatory Cooperation”) ³¹ requires agencies to consider whether the impacts associated with significant variations between domestic and international regulatory approaches are unnecessary or may impair the ability of American businesses to export and compete internationally. In meeting shared challenges involving health, safety, labor, security, environmental, and other issues, international regulatory cooperation can identify approaches that are at least as protective as those that would be adopted in the absence of such cooperation. International regulatory cooperation can also reduce, eliminate, or prevent unnecessary differences in regulatory requirements.

³¹ 77 FR 26413 (May 4, 2012).

Similarly, the Trade Agreements Act of 1979 (Pub. L. 96-39), as amended by the Uruguay Round Agreements Act (Pub. L. 103-465), prohibits Federal agencies from establishing any industry standards or engaging in related activities that create unnecessary obstacles to the foreign commerce of the United States. For purposes of these requirements, Federal agencies may participate in the establishment of international standards so long as the standards have a legitimate domestic objective, such as helping to ensure safety, and do not operate to exclude imports that meet this objective. The statute also requires consideration of international standards and, where appropriate, that they serve as the basis for U.S. standards.

PHMSA participates in the establishment of international standards to protect the safety of the American public. PHMSA assessed the effects of the final rule and understands that it will not cause unnecessary obstacles to foreign trade.

Cybersecurity and Executive Order 14028

Executive Order 14028 (“Improving the Nation's Cybersecurity”) ³² directs the Federal Government to improve its efforts to identify, deter, and respond to “persistent and increasingly sophisticated malicious cyber campaigns.” In keeping with these policies and directives, PHMSA has assessed the effects of this final rule to determine what impact the regulatory amendments may have on cybersecurity risks for pipeline facilities and has determined that this final rule will not materially affect the cybersecurity risk profile for pertinent pipeline facilities.

³² 86 FR 26633 (May 17, 2021).

This final rule adopts more than 20 new or updated voluntary, consensus industry technical standards that provide specification of materials, test methods, or performance requirements. Gas and hazardous liquid (and carbon dioxide) pipeline operator compliance strategies may be subject to current Transportation Security Agency (TSA) pipeline cybersecurity directives ³³ and would be subject to ongoing TSA efforts to strengthen cybersecurity and resiliency in the pipeline sector, as discussed within an ANPRM published in November 2022.³⁴ Further, the Cybersecurity & Infrastructure Security Agency (CISA) and the Pipeline Cybersecurity Initiative (PCI) of the U.S. Department of Homeland Security conduct ongoing activities to address cybersecurity risks to U.S. pipeline facilities, and may introduce other cybersecurity requirements and guidance for gas and hazardous liquid (and carbon dioxide) pipeline operators.³⁵ Lastly, because PHMSA concludes that each of the updated standards in this final rule will enhance the protection of public safety and the environment, this rulemaking could reduce the public safety and the environmental consequences in the event of a cybersecurity incident on pertinent pipeline facilities.

³³ E.g., TSA, Security Directive Pipeline-2021-01C (May 29, 2023); TSA, Security Directive Pipeline-2021-02D (July 27, 2023).

³⁴ TSA, “Advance Notice of Proposed Rulemaking: Enhancing Surface Cyber Risk Management,” 87 FR 73527 (Nov. 30, 2022).

³⁵ See, e.g., CISA, National Cyber Awareness System Alerts, https://www.cisa.gov/uscert/ncas/alerts (last accessed Feb. 1, 2023).

National Technology Transfer and Advancement Act

As discussed above, the NTTAA of 1995 (15 U.S.C. 272 note) directs Federal agencies to use voluntary, consensus technical industry standards in their regulatory activities unless doing so would be inconsistent with applicable law or would be otherwise impractical. Voluntary, consensus technical industry standards are technical standards (e.g., specification of materials, test methods, or performance requirements) that are developed or adopted by voluntary consensus standards bodies. This final rule adopts more than 20 new or updated voluntary, consensus industry technical standards.

Severability

The purpose of this final rule is to operate holistically in addressing a panoply of issues necessary to ensure safe operation of regulated gas and hazardous liquid (as well as carbon dioxide) pipelines, with a focus on providing pipeline operators the ability to use current technologies, improved materials, and updated industry and management practices. However, PHMSA recognizes that this rule incorporates by reference various updated industry standards that focus on unique topics. Therefore, PHMSA concludes that the regulatory amendments adopted herein incorporating various updated industry standards into the PSRs are severable and able to function independently if severed from each other. In the event a court were to invalidate one or more of the unique provisions of the final rule issued in this proceeding, the remaining provisions should stand, thus allowing their continued effect.

List of Subjects

49 CFR Part 192

Incorporation by reference, Pipeline safety, Natural gas.

49 CFR Part 195

Incorporation by reference, Pipeline safety, Anhydrous ammonia, Carbon dioxide, Petroleum.

In consideration of the foregoing, PHMSA is amending 49 CFR parts 192 and 195 as follows:

PART 192—TRANSPORTATION OF NATURAL AND OTHER GAS BY PIPELINE: MINIMUM FEDERAL SAFETY STANDARDS

1. The authority citation for part 192 continues to read as follows:

Authority: 30 U.S.C. 185(w)(3), 49 U.S.C. 5103, 60101 et seq., and 49 CFR 1.97.

2. In § 192.3, add, in alphabetical order, the definition for “Master Meter System” to read as follows:

§ 192.3 Definitions.

* * * * *

Master Meter System means a pipeline system for distributing gas within, but not limited to, a definable area (such as a mobile home park, housing project, or apartment complex) where the operator purchases metered gas from an outside source for resale through a gas distribution pipeline system. The gas distribution pipeline system supplies the ultimate consumer who either purchases the gas directly through a meter or by other means, such as by rents.

* * * * *

3. Amend § 192.7 by:

a. Revising paragraph (a), the introductory text of paragraph (b), paragraphs (b)(7) through (9), the introductory text of paragraph (c) and paragraphs (c)(2), (5), and (6);

b. Adding paragraph (c)(7);

c. Redesignating paragraphs (c)(8) through (10) as (c)(9) through (11);

d. Adding paragraph (c)(8);

e. Revising the introductory text of paragraph (e) and paragraphs (e)(1) through (3), (5), (7), and (9);

f. Removing and reserve paragraph (f); and

g. Revising paragraph (g), the introductory text of paragraph (i), and paragraphs (i)(2) through (4).

The revisions and additions read as follows:

§ 192.7 What documents are incorporated by reference partly or wholly in this part?

(a) Certain material is incorporated by reference into this part with the approval of the Director of the Federal Register under 5 U.S.C. 552(a) and 1 CFR part 51. All approved incorporation by reference (IBR) material is available for inspection at the Pipeline and Hazardous Materials Safety Administration (PHMSA) and the National Archives and Records Administration (NARA). Contact PHMSA at: Office of Pipeline Safety, Pipeline and Hazardous Materials Safety Administration, 1200 New Jersey Avenue SE, Washington, DC 20590; 202-366-4046; www.phmsa.dot.gov/pipeline/regs. For information on the availability of this material at NARA, visit www.archives.gov/federal-register/cfr/ibr-locations.html or email fr.inspection@nara.gov. It is also available from the sources in the following paragraphs of this section.

(b) American Petroleum Institute (API), 200 Massachusetts Avenue NW, Suite 1100, Washington, DC 20001-5571; phone: (202) 682-8000; website: www.api.org.

* * * * *

(7) API Specification 5L, Line Pipe, 46th edition, April 2018, including Errata 1 (May 2018), (API Spec 5L); IBR approved for §§ 192.55(e); 192.112(a), (b), (c), (d), and (e); 192.113; appendix B to part 192.

(8) API Specification 6D, Specification for Pipeline and Piping Valves, 24th edition, August 2014, including Errata 1 through 10 (October 2014 through July 2021), Addendum 1 (March 2015), and Addendum 2 (June 2016), (API Spec 6D); IBR approved for § 192.145(a).

(9) API Standard 1104, Welding of Pipelines and Related Facilities, 21st edition, September 2013, including Errata 1 through 5 (April 2014 through September 2018), Addendum 1 (2014), and Addendum 2 (2016), (API Std 1104); IBR approved for §§ 192.225(a); 192.227(a); 192.229(b) and (c); 192.241(c); appendix B to part 192.

* * * * *

(c) American Society of Mechanical Engineers (ASME), Three Park Avenue, New York, NY 10016; phone: (800) 843-2763; email: CustomerCare@asme.org; website: www.asme.org/.

* * * * *

(2) ASME/ANSI B16.5-2003, Pipe Flanges and Flanged Fittings, October 2004, (ASME/ANSI B16.5); IBR approved for §§ 192.147(a); 192.607(f).

* * * * *

(5) ASME B31.8-2018, Gas Transmission and Distribution Piping Systems, Issued November 20, 2018, (ASME B31.8); IBR approved for §§ 192.112(b); 192.619(a).

(6) ASME/ANSI B31.8S-2004, “Supplement to B31.8 on Managing System Integrity of Gas Pipelines,” approved January 14, 2005, (ASME/ANSI B31.8S-2004), IBR approved for §§ 192.714(d); 192.933(d).

(7) ASME B31.8S-2018, Managing System Integrity of Gas Pipelines, Issued November 28, 2018, (ASME B31.8S); IBR approved for §§ 192.13(d); 192.714(c); 192.903 note to Potential impact radius; 192.907 introductory text and (b); 192.911 introductory text, (i), and (k) through (m); 192.913(a) through (c); 192.917(a) through (e); 192.921(a); 192.923(b); 192.925(b); 192.933(c); 192.935(b); 192.937(c); 192.939(a); 192.945(a).

(8) ASME B36.10M-2018, Welded and Seamless Wrought Steel Pipe, Issued October 12, 2018, (ASME B36.10M); IBR approved for § 192.279.

* * * * *

(e) ASTM International (ASTM), 100 Barr Harbor Drive, P.O. Box C700, West Conshohocken, PA 19428; phone: (610) 832-9585; email: service@astm.org; website: www.astm.org.

(1) ASTM A53/A53M-20, Standard Specification for Pipe, Steel, Black and Hot-Dipped, Zinc-Coated, Welded and Seamless, approved July 1, 2020, (ASTM A53/A53M); IBR approved for § 192.113; appendix B to part 192.

(2) ASTM A106/A106M-19A, Standard Specification for Seamless Carbon Steel Pipe for High-Temperature Service, approved November 1, 2019, (ASTM A106/A106M); IBR approved for § 192.113; appendix B to part 192.

(3) ASTM A333/A333M-18, Standard Specification for Seamless and Welded Steel Pipe for Low-Temperature Service and Other Applications with Required Notch Toughness, approved November 1, 2018, (ASTM A333/A333M); IBR approved for § 192.113; appendix B to part 192.

* * * * *

(5) ASTM A381/A381M-18, Standard Specification for Metal-Arc-Welded Carbon or High-Strength Low-Alloy Steel Pipe for Use with High-Pressure Transmission Systems, approved November 1, 2018, (ASTM A381); IBR approved for § 192.113; appendix B to part 192.

* * * * *

(7) ASTM A671/A671M-20, Standard Specification for Electric-Fusion-Welded Steel Pipe for Atmospheric and Lower Temperatures, approved March 1, 2020, (ASTM A671/A671M); IBR approved for § 192.113; appendix B to part 192.

* * * * *

(9) ASTM A691/A691M-19, Standard Specification for Carbon and Alloy Steel Pipe, Electric-Fusion-Welded for High-Pressure Service at High Temperatures, approved November 1, 2019, (ASTM A691/A691M); IBR approved for § 192.113; appendix B to part 192.

* * * * *

(g) Manufacturers Standardization Society of the Valve and Fittings Industry, Inc. (MSS), 127 Park St. NE, Vienna, VA 22180; phone: (703) 281-6613; email: info@msshq.org; website: www.mss-hq.org/.

(1) ANSI/MSS SP-44-2019, Steel Pipeline Flanges, published April 2020, (MSS SP-44); IBR approved for § 192.147(a).

(2) [Reserved]

* * * * *

(i) National Fire Protection Association (NFPA), 1 Batterymarch Park, Quincy, MA 02169; phone: (617) 984-7275; website: www.nfpa.org.

* * * * *

(2) NFPA 58, Liquefied Petroleum Gas Code, 2020 edition, effective August 25, 2019, (NFPA 58); IBR approved for § 192.11.

(3) NFPA 59, Utility LP-Gas Plant Code, 2018 edition, effective September 6, 2017, (NFPA 59); IBR approved for § 192.11.

(4) NFPA 70, National Electrical Code (NEC), 2017 edition, effective August 24, 2016, (NFPA 70); IBR approved for §§ 192.163(e); 192.189(c).

* * * * *

4. Revise § 192.11 to read as follows:

§ 192.11 Petroleum gas systems.

(a) Each plant that supplies petroleum gas by pipeline to a natural gas distribution system must meet the requirements of this part and NFPA 58 or NFPA 59 (both incorporated by reference, see § 192.7), based on the scope and applicability statements in those standards.

(b) Each pipeline system subject to this part that transports only petroleum gas or petroleum gas/air mixtures must meet the requirements of this part and NFPA 58 or NFPA 59 (both incorporated by reference, see § 192.7), based on the scope and applicability statements in those standards.

(c) In the event of a conflict between this part and NFPA 58 or NFPA 59 (both incorporated by reference, see § 192.7), NFPA 58 or NFPA 59 shall prevail if applicable based on the scope and applicability statements in those standards.

§ 192.13 [AMENDED]

5. In § 192.13 paragraph (d), remove the text “ASME/ANSI B31.8S” and add, in its place, the text “ASME B31.8S”.

§ 192.112 [AMENDED]

6. Amend § 192.112 by:

a. Removing in paragraph (b)(1)(ii), the text “American Society of Mechanical Engineers (ASME)” and adding, in its place, the text “ASME”;

b. Removing in paragraph (b)(2)(iv), the text “API Specification 5L” and adding, in its place, the text “API Spec 5L”;

c. Removing in the introductory text of paragraph (c)(2), the text “include (i) and either (ii) or (iii)” and adding, in its place, the text “include paragraph (c)(2)(i) of this section and either paragraph (c)(2)(ii) or (iii) of this section”;

d. Redesignating paragraphs (c)(2)(iii)(a) through (e) as paragraphs (c)(2)(iii)(A) through (E) and adding a paragraph break before each newly redesignated paragraph; and

e. Removing in paragraph (e)(3), the text `“ANSI/API Spec 5L”' and adding, in its place, the text “API Spec 5L”.

7. Revise § 192.113 to read as follows:

§ 192.113 Longitudinal joint factor (E) for steel pipe.

(a) The longitudinal joint factor to be used in the design formula in § 192.105 is determined in accordance with the table 1 to this paragraph (a):

Table 1 to Paragraph (a)
Specification | Pipe class | Longitudinal joint factor (E)
ASTM A53/A53M (incorporated by reference, see § 192.7) | Seamless | 1.00
| Electric resistance welded | 1.00
| Furnace butt welded | .60
ASTM A106/A106M (incorporated by reference, see § 192.7) | Seamless | 1.00
ASTM A333/A333M (incorporated by reference, see § 192.7) | Seamless | 1.00
| Electric resistance welded | 1.00
ASTM A381 (incorporated by reference, see § 192.7) | Double submerged arc welded | 1.00
ASTM A671/A671M (incorporated by reference, see § 192.7) | Electric-fusion-welded | 1.00
ASTM A672 (incorporated by reference, see § 192.7) | Electric-fusion-welded | 1.00
ASTM A691/A691M (incorporated by reference, see § 192.7) | Electric-fusion-welded | 1.00
API Spec 5L (incorporated by reference, see § 192.7) | Seamless | 1.00
| Electric resistance welded | 1.00
| Electric flash welded | 1.00
| Submerged arc welded | 1.00
| Furnace butt welded | .60
Other | Pipe over 4 inches (102 millimeters) | .80
Other | Pipe 4 inches (102 millimeters) or less | .60

(b) If the type of longitudinal joint cannot be determined, the joint factor to be used must not exceed that designated for “Other.”

8. In § 192.121, revise paragraphs (c)(2)(iv), (d)(2)(iv), and (e)(4) to read as follows:

§ 192.121 Design of plastic pipe.

* * * * *

(c) * * *

(2) * * *

(iv) The wall thickness for a given outside diameter is not less than that listed in Table 1 to this paragraph (c)(2)(iv):

Table 1 to Paragraph (c)(2)(iv)
PE pipe: minimum wall thickness and SDR values: Pipe size (inches) | PE pipe: minimum wall thickness and SDR values: Minimum wall thickness (inches) | PE pipe: minimum wall thickness and SDR values: Corresponding dimension ratio (values)
½″ CTS | 0.090 | 7
½″ IPS | 0.090 | 9.3
¾″ CTS | 0.090 | 9.7
¾″ IPS | 0.095 | 11
1″ CTS | 0.099 | 11
1″ IPS | 0.119 | 11
1 ¼″ CTS | 0.121 | 11
1 ¼″ IPS | 0.151 | 11
1 ½″ IPS | 0.173 | 11
2″ | 0.216 | 11
3″ | 0.259 | 13.5
4″ | 0.265 | 17
6″ | 0.315 | 21
8″ | 0.411 | 21
10″ | 0.512 | 21
12″ | 0.607 | 21

(d) * * *

(2) * * *

(iv) The minimum wall thickness for a given outside diameter is not less than that listed in table 2 to this paragraph (d)(2)(iv):

Table 2 to Paragraph (d)(2)(iv)
PA-11 pipe: minimum wall thickness and SDR values: Pipe size (inches) | PA-11 pipe: minimum wall thickness and SDR values: Minimum wall thickness (inches) | PA-11 pipe: minimum wall thickness and SDR values: Corresponding dimension ratio (values)
½″ CTS | 0.090 | 7.0
½″ IPS | 0.090 | 9.3
¾″ CTS | 0.090 | 9.7
¾″ IPS | 0.095 | 11
1″ CTS | 0.099 | 11
1″ IPS | 0.119 | 11
1 ¼″ CTS | 0.121 | 11
1 ¼″ IPS | 0.151 | 11
1 ½″ IPS | 0.173 | 11
2″ IPS | 0.216 | 11
3″ IPS | 0.259 | 13.5
4″ IPS | 0.333 | 13.5
6″ IPS | 0.491 | 13.5

(e) * * *

(4) The minimum wall thickness for a given outside diameter is not less than that listed in table 3 to this paragraph (e)(4):

Table 3 to Paragraph (e)(4)
PA-12 Pipe: minimum wall thickness and SDR values: Pipe size (inches) | PA-12 Pipe: minimum wall thickness and SDR values: Minimum wall thickness (inches) | PA-12 Pipe: minimum wall thickness and SDR values: Corresponding dimension ratio (values)
½″ CTS | 0.090 | 7
½″ IPS | 0.090 | 9.3
¾″ CTS | 0.090 | 9.7
¾″ IPS | 0.095 | 11
1″ CTS | 0.099 | 11
1″ IPS | 0.119 | 11
1 ¼″ CTS | 0.121 | 11
1 ¼″ IPS | 0.151 | 11
1 ½″ IPS | 0.173 | 11
2″ IPS | 0.216 | 11
3″ IPS | 0.259 | 13.5
4″ IPS | 0.333 | 13.5
6″ IPS | 0.491 | 13.5

* * * * *

§ 192.145 [AMENDED]

9. In § 192.145 paragraph (a), remove the text “ANSI/API Spec 6D” and add, in its place, the text “API Spec 6D”.

10. In § 192.147, revise paragraph (a) to read as follows:

§ 192.147 Flanges and flange accessories.

(a) Each flange or flange accessory (other than cast iron) must meet the minimum requirements of ASME/ANSI B16.5 (incorporated by reference, see § 192.7), ANSI/MSS SP-44 (incorporation by reference, see § 192.7), or the equivalent.

* * * * *

11. In § 192.153, revise paragraph (d) to read as follows:

§ 192.153 Components fabricated by welding.

* * * * *

(d) Except for flat closures designed in accordance with ASME BPVC, Section VIII, Division 1 or Division 2, (both incorporated by reference, see § 192.7), flat closures and fish tails may not be used on pipe that either operates at 100 psig (689 kilopascals) or more, or that is more than 3 inches (76 millimeters) in nominal diameter.

* * * * *

§ 192.163 [AMENDED]

12. In § 192.163 paragraph (e), remove the text “NFPA-70” and add, in its place, the text “NFPA 70 (incorporated by reference, see § 192.7)”.

§ 192.225 [AMENDED]

13. In § 192.225 paragraph (a), remove the text “section 5” and add, in its place, the text “section 5 (except for Note 2 in section 5.4.2.2)”.

14. Revise § 192.279 to read as follows:

§ 192.279 Copper pipe.

Copper pipe may not be threaded except for copper pipe that is used for joining screw fittings or valves, which may be threaded if the wall thickness is equivalent to the comparable size of Schedule 40 or heavier wall pipe listed in ASME B36.10M (incorporated by reference, see § 192.7).

§ 192.714 [AMENDED]

15. Amend § 192.714, by:

a. Removing the text “ASME/ANSI B31.8S” in paragraph (c), and adding, in its place, the text “ASME B31.8S”;

b. Removing in paragraph (c) the text “section 7, Figure 4” and adding, in its place, the text “Section 7, Figure 7.2.1-1”; and

c. Removing in paragraph (d)(1) and (d)(2)(iv), the text “ASME/ANSI B31.8S” and adding, in its place, the text “ASME/ANSI B31.8S-2004”.

16. In § 192.727 revise paragraph (g)(1) to read as follows:

§ 192.727 Abandonment or deactivation of facilities.

* * * * *

(g) * * *

(1) The preferred method to submit data on pipeline facilities abandoned after October 10, 2000, is to the National Pipeline Mapping System (NPMS) in accordance with the NPMS “Standards for Pipeline and Liquefied Natural Gas Operator Submissions.” To obtain a copy of the NPMS Standards, please refer to the NPMS homepage at www.npms.phmsa.dot.gov. A digital data format is preferred, but hard copy submissions are acceptable if they comply with the NPMS Standards. In addition to the NPMS-required attributes, operators must submit the date of abandonment, diameter, method of abandonment, and certification that, to the best of the operator's knowledge, all of the reasonably available information requested was provided and, to the best of the operator's knowledge, the abandonment was completed in accordance with applicable laws. Refer to the NPMS Standards for details in preparing your data for submission. The NPMS Standards also include details of how to submit data. Alternatively, operators may submit reports by mail, fax or email to the Office of Pipeline Safety, Pipeline and Hazardous Materials Safety Administration, U.S. Department of Transportation, Information Resources Manager, PHP-10, 1200 New Jersey Avenue SE, Washington, DC 20590-0001; fax (202) 366-4566; email InformationResourcesManager@dot.gov. The information in the report must contain all reasonably available information related to the facility, including information in the possession of a third party. The report must contain the location, size, date, method of abandonment, and a certification that the facility has been abandoned in accordance with all applicable laws.

* * * * *

§ 192.903 [AMENDED]

17. Amend the Note to Potential impact radius in § 192.903 by removing the term “ASME/ANSI B31.8S” and adding in its place the term “ASME B31.8S”.

§ 192.907 [AMENDED]

18. In § 192.907 paragraph (b), remove the text “ASME/ANSI B31.8S” wherever it appears and add, in its place, the text “ASME B31.8S”.

19. Amend § 192.911 by:

a. Removing in the introductory text to § 192.911, paragraphs (i), and (l), the text “ASME/ANSI B31.8S” and adding in its place, the text “ASME B31.8S”; and

b. Revising paragraph (m).

The revisions read as follows:

§ 192.911 What are the elements of an integrity management program?

* * * * *

(m) A communication plan that includes the elements of ASME B31.8, Paragraph 850.9 (incorporated by reference, see § 192.7), and that includes procedures for addressing safety concerns raised by—

(1) OPS; and

(2) A State or local pipeline safety authority when a covered segment is located in a State where OPS has an interstate agent agreement.

* * * * *

§ 192.917 [AMENDED]

20. Amend § 192.917 by:

a. Removing the text “ASME/ANSI B31.8S”, wherever it appears, and add, in its place, the text “ASME B31.8S”;

b. Removing the paragraph break between the introductory text of paragraph (b) and the undesignated paragraph immediately following;

c. Removing in paragraph (e)(1), the text “Appendix A7” and adding, in its place, the text “Appendix A-8”; and

d. Removing in paragraph (e)(4), the text “Appendices A4.3 and A4.4” and adding, in its place, the text “Appendices A-5.3 and A-5.4”.

§ 192.921 [AMENDED]

21. In § 192.921 paragraph (a)(2), remove the text “specified in Table 3 of section 5 of ASME/ANSI” and add in its place, the text “specified in Table 5.6.1-1 of Section 5 of ASME”.

§ 192.923 [AMENDED]

22. In § 192.923, amend paragraph (b)(1) by:

a. Removing the text “ASME/ANSI” and adding, in its place, the text “ASME”; and

b. Removing the text “section 6.4” and adding, in its place, the text “Section 6.4”.

§ 192.925 [AMENDED]

23. In § 192.925, remove the text “ASME/ANSI B31.8S”, wherever it appears, and add, in its place, the text “ASME B31.8S”.

§ 192.927 [AMENDED]

24. In § 192.927 paragraph (c)(4)(iii), remove the paragraph break that appears after the text “risk factors specific to the ICDA region”.

§ 192.933 [AMENDED]

25. Amend § 192.933, by:

a. Removing in paragraph (c), the text “ASME/ANSI B31.8S” and adding, in its place, the text “ASME B31.8S”;

b. Removing in paragraph (c), the text “section 7, Figure 4” and adding, in its place, the text “Section 7, Figure 7.2.1-1”; and

c. Removing in paragraph (d), the text “ASME/ANSI B31.8S”, wherever it appears, and adding, in its place, the text “ASME/ANSI B31.8S-2004”.

§ 192.935 [AMENDED]

26. In § 192.935 paragraph (b)(1)(iv), remove the text “ANSI/ASME” and add, in its place, the text “ASME”.

§ 192.937 [AMENDED]

27. In § 192.937 paragraph (c)(2), remove the text “table 3 of section 5 of ASME/ANSI” and add, in its place, the text “Table 5.6.1-1 of Section 5 of ASME”.

§ 192.939 [AMENDED]

28. Amend § 192.939 by:

a. Removing in paragraph (a)(1)(ii), the text “section 5, Table 3” and adding, in its place, the text “Table 5.6.1-1 of Section 5”; and

b. Removing in paragraph (a)(3), the text “ASME/ANSI B31.8S, section 5, Table 3” and adding, in its place, the text “ASME B31.8S, Table 5.6.1-1 of Section 5”.

Appendix B to Part 192 [Amended]

29. Amend Section I.A. by removing the text “API Specification for Line Pipe” and adding in its place, the text “Line Pipe”.

PART 195—TRANSPORTATION OF HAZARDOUS LIQUIDS BY PIPELINE

30. The authority citation for part 195 continues to read as follows:

Authority: 30 U.S.C. 185(w)(3), 49 U.S.C. 5103, 60101 et seq, and 49 CFR 1.97.

31. In § 195.1, revise paragraph (c) to read as follows:

§ 195.1 Which pipelines are covered by this Part?

* * * * *

(c) Breakout tanks. Breakout tanks that are subject to this part must comply with requirements that apply specifically to breakout tanks and, to the extent applicable, with requirements that apply to pipeline systems and pipeline facilities. If a conflict exists between a requirement that applies specifically to breakout tanks and a requirement that applies to pipeline systems or pipeline facilities, the requirement that applies specifically to breakout tanks prevails. Anhydrous ammonia breakout tanks need not comply with §§ 195.132(b); 195.205(b); 195.264(b) and (e); 195.307; 195.428(c) through (d); and 195.432(b) and (c).

32. Amend § 195.3 by:

a. Revising paragraph (a), the introductory text of paragraph (b), and paragraphs (b)(1), and (5), (12) through (14), (17) and (18), and (20) and (21);

b. Redesignating paragraphs (b)(1) through (23) as set forth in the following table:

Old | New
Paragraph (b)(1) | Paragraph (b)(11).
Paragraph (b)(2) through (11) | Paragraph (b)(1) through (10).
Paragraph (b)(12) | Paragraph (b)(22).
Paragraph (b)(13) through (20) | Paragraph (b)(12) through (19).
Paragraph (b)(21) | Paragraph (b)(21).
Paragraph (b)(22) | Paragraph (b)(23).
Paragraph (b)(23) | Paragraph (b)(20).

d. Revising the introductory text of paragraph (c) and paragraphs (c)(3) and (4);

e. Revising and republishing paragraph (e);

f. Revising paragraph (f), the introductory text of paragraph (g), and paragraph (g)(4); and

g. Redesignating paragraphs (f) and (g) as set forth in the following table:

Old | New
Paragraph (f) | Paragraph (g).
Paragraph (g) | Paragraph (f).

The additions and revisions read as follows:

§ 195.3 What documents are incorporated by reference partly or wholly in this part?

(a) Certain material is incorporated by reference into this part with the approval of the Director of the Federal Register under 5 U.S.C. 552(a) and 1 CFR part 51. All approved incorporation by reference (IBR) material is available for inspection at the Pipeline and Hazardous Materials Safety Administration (PHMSA) and at the National Archives and Records Administration (NARA). Contact PHMSA at: Office of Pipeline Safety, Pipeline and Hazardous Materials Safety Administration, 1200 New Jersey Avenue SE, Washington, DC 20590; (202) 366-4046; www.phmsa.dot.gov/pipeline/regs. For information on inspecting this material at NARA, visit www.archives.gov/federal-register/cfr/ibr-locations.html or email fr.inspection@nara.gov. It is also available from the sources in the following paragraphs of this section.

(b) American Petroleum Institute (API), 200 Massachusetts Avenue NW, Suite 1100, Washington, DC 20001-5571; phone: (202) 682-8000; website: www.api.org/.

(1) API Recommended Practice 2026, “Safe Access/Egress Involving Floating Roofs of Storage Tanks in Petroleum Service,” 3rd edition, June 2017, (API RP 2026); IBR approved for § 195.405(b).

* * * * *

(5) API Recommended Practice 651, Cathodic Protection of Aboveground Petroleum Storage Tanks, 4th edition, September 2014, (API RP 651); IBR approved for §§ 195.565 and 195.573(d).

* * * * *

(12) API Standard 2350, “Overfill Prevention for Storage Tanks in Petroleum Facilities,” 5th edition, September 2020, (API Std 2350), including Errata 1 (April 2021); IBR approved for § 195.428(c).

(13) API Specification 5L, Line Pipe, 46th edition, April 2018, including Errata 1 (May 2018), (API Spec 5L) IBR approved for § 195.106(b) and (e).

(14) API Specification Spec 6D, Specification for Pipeline and Piping Valves, 24th edition, August 2014, including Errata 1 through 10 (October 2014 through July 2021), Addendum 1 (March 2015), and Addendum 2 (June 2016), (API Spec 6D); IBR approved for § 195.116(d).

* * * * *

(17) API Standard 620, Design and Construction of Large, Welded, Low-Pressure Storage Tanks, 12th edition, effective October 2013, including Addendum 1 (November 2014) (API Std 620); IBR approved for §§ 195.132(b); 195.205(b); 195.264(b), and (e); 195.307(b); 195.565; 195.579(d).

(18) API Standard 650, Welded Tanks for Oil Storage, 13th edition, March 2020, including Errata 1 (January 2021), (API Std 650); IBR approved for §§ 195.132(b); 195.205(b); 195.264(b), (e); 195.307(c), (d); 195.565; 195.579(d).

* * * * *

(20) API Standard 1104, Welding of Pipelines and Related Facilities, 21st edition, September 2013, including Errata 1 through 5 (April 2014 through September 2018), Addendum 1 (July 2014), and Addendum 2 (May 2016); IBR approved for §§ 195.214(a); 195.222(a) and (b); 195.228(b).

(21) API Standard 2000, Venting Atmospheric and Low-pressure Storage Tanks, 7th Edition, March 2014, Reaffirmed April 2020, (API Std 2000), IBR approved for § 195.264(e).

* * * * *

(c) The American Society of Mechanical Engineers (ASME), Two Park Avenue, New York, NY 10016; phone: (800) 843-2763; website: http://www.asme.org/.

* * * * *

(3) ASME B31.4-2006, Pipeline Transportation Systems for Liquid Hydrocarbons and Other Liquids, October 20, 2006, (ASME B31.4); IBR approved for § 195.110(a).

(4) ASME B31.8-2018, Gas Transmission and Distribution Piping Systems, Issued November 20, 2018, (ASME B31.8); IBR approved for §§ 195.5(a); 195.406(a).

* * * * *

(e) ASTM International (ASTM), 100 Barr Harbor Drive, P.O. Box C700, West Conshohocken, PA 119428; phone: (610) 832-9585; email: service@astm.org; website: http://www.astm.org/.

(1) ASTM A53/A53M-20, Standard Specification for Pipe, Steel, Black and Hot-Dipped, Zinc-Coated, Welded and Seamless, approved July 1, 2020, (ASTM A53/A53M); IBR approved for § 195.106(e).

(2) ASTM A106/A106M-19A, Standard Specification for Seamless Carbon Steel Pipe for High-Temperature Service, approved November 1, 2019, (ASTM A106/A106M); IBR approved for § 195.106(e).

(3) ASTM A333/A333M-18, Standard Specification for Seamless and Welded Steel Pipe for Low-Temperature Service and Other Applications with Required Notch Toughness, approved November 1, 2018, (ASTM A333/A333M); IBR approved for § 195.106(e).

(4) ASTM A381/A381M-18, Standard Specification for Metal-Arc-Welded Carbon or High-Strength Low-Alloy Steel Pipe for Use with High-Pressure Transmission Systems, approved November 1, 2018, (ASTM A381); IBR approved for § 195.106(e).

(5) ASTM A671/A671M-20, Standard Specification for Electric-Fusion-Welded Steel Pipe for Atmospheric and Lower Temperatures, approved March 1, 2020, (ASTM A671/A671M); IBR approved for § 195.106(e).

(6) ASTM A672/A672M-09, Standard Specification for Electric-Fusion-Welded Steel Pipe for High-Pressure Service at Moderate Temperatures, approved October 1, 2009, (ASTM A672/A672M); IBR approved for § 195.106(e).

(7) ASTM A691/A691M-19, Standard Specification for Carbon and Alloy Steel Pipe, Electric-Fusion-Welded for High-Pressure Service at High Temperatures, approved November 1, 2019, (ASTM A691/A691M); IBR approved for § 195.106(e).

(f) Manufacturers Standardization Society of the Valve and Fittings Industry, Inc. (MSS), 127 Park St. NE, Vienna, VA 22180; phone: (703) 281-6613; website: www.mss-hq.org/.

(1) MSS SP-75-2019 Standard Practice, High-Strength, Wrought, Butt-Welding Fittings, published December 2019, (MSS SP-75); IBR approved for § 195.118(a).

(2) [Reserved]

(g) Association for Materials Protection and Performance (AMPP), 15835 Park Ten Place, Houston, TX 77084; phone: (800) 797-6223; website: https://ampp.org/standards.

* * * * *

(4) NACE SP0204-2015, Stress Corrosion Cracking (SSC) Direct Assessment Methodology, Revised March 14, 2015, (NACE SP0204); IBR approved for § 195.588(c).

§ 195.5 [AMENDED]

33. In § 195.5 paragraph (a)(1)(i), remove the text “ASME/ANSI B31.8” and add, in its place, the text “ASME B31.8”.

34. In § 195.58, revise paragraph (a) to read as follows:

§ 195.58 Reporting submission requirements.

(a) General. Except as provided in paragraphs (b) and (e) of this section, an operator must submit each report required by this part electronically to PHMSA at https://portal.phmsa.dot.gov unless an alternative reporting method is authorized in accordance with paragraph (d) of this section.

* * * * *

35. In § 195.59, revise paragraph (a) to read as follows:

§ 195.59 Abandonment or deactivation of facilities.

* * * * *

(a) The preferred method to submit data on pipeline facilities abandoned after October 10, 2000, is to the National Pipeline Mapping System (NPMS) in accordance with the NPMS “Standards for Pipeline and Liquefied Natural Gas Operator Submissions.” To obtain a copy of the NPMS standards, please refer to the NPMS homepage at https://www.npms.phmsa.dot.gov. A digital data format is preferred, but hard copy submissions are acceptable if they comply with the NPMS Standards. In addition to the NPMS-required attributes, operators must submit the date of abandonment, diameter, method of abandonment, and certification that, to the best of the operator's knowledge, all of the reasonably available information requested was provided and, to the best of the operator's knowledge, the abandonment was completed in accordance with applicable laws. Refer to the NPMS Standards for details in preparing your data for submission. The NPMS Standards also include details of how to submit data. Alternatively, operators may submit reports by mail, fax or email to the Office of Pipeline Safety, Pipeline and Hazardous Materials Safety Administration, U.S. Department of Transportation, Information Resources Manager, PHP-10, 1200 New Jersey Avenue SE, Washington, DC 20590-0001; fax: (202) 366-4566; email: InformationResourcesManager@dot.gov. The information in the report must contain all reasonably available information related to the facility, including information in the possession of a third party. The report must contain the location, size, date, method of abandonment, and a certification that the facility has been abandoned in accordance with all applicable laws.

* * * * *

§ 195.106 [AMENDED]

36. In § 195.106, amend paragraphs (b)(1)(i) and (e)(1) by removing the text “ANSI/API Spec 5L” and adding, in its place, the text “API Spec 5L”.

§ 195.110 [AMENDED]

37. In § 195.110 paragraph (a), remove the text “ASME/ANSI B31.4” and add, in its place, the words “ASME B31.4”.

§ 195.116 [AMENDED]

38. In § 195.116 paragraph (d), remove the text “ANSI/API Spec 6D” and add, in its place, the text “API Spec 6D”.

§ 195.214 [AMENDED]

39. In § 195.214 paragraph (a), remove the text “section 5” and add, in its place, the text “section 5 (except for Note 2 in section 5.4.2.2)”.

40. Amend § 195.307 by:

a. Revising paragraph (c); and

b. Removing in paragraph (d), the text “API Standard 653” and adding, in its place, the text “API Std 653”.

The revision reads as follows:

§ 195.307 Pressure testing aboveground breakout tanks.

* * * * *

(c) For aboveground breakout tanks built to API Std 650 (incorporated by reference, see § 195.3) that were first placed into service after October 2, 2000, testing must be conducted in accordance with Sections 7.3.6 and 7.3.7 of API Std 650.

* * * * *

§ 195.405 [AMENDED]

41. In § 195.405 paragraph (b), remove the text “API Pub 2026”, wherever it appears, and add, in its place, the text “API RP 2026”.

§ 195.406 [AMENDED]

42. In § 195.406 paragraph (a)(1)(i), remove the text “ASME/ANSI B31.8” and add, in its place, the text “ASME B31.8”.

§ 195.428 [AMENDED]

43. In § 195.428 paragraph (c), remove the text “API RP 2350”, wherever it appears, and add, in its place, the text “API Std 2350”.

§ 195.565 [AMENDED]

44. In § 195.565, remove the text “ANSI/API RP 651”, wherever it appears, and add, in its place, the text “API RP 651”.

§ 195.588 [AMENDED]

45. In § 195.588 paragraph (c), remove the text “NACE SP0204-2008”, wherever it appears, and add, in its place, the text “NACE SP0204”.

Issued in Washington, DC, on April 17, 2024, under authority delegated in 49 CFR 1.97.
Tristan H. Brown,
Deputy Administrator.

[FR Doc. 2024-08624 Filed 4-26-24; 8:45 am]

BILLING CODE 4910-60-P